OFFICE OF THE UNITED STATES TRADE REPRESENTATIVE

Exclusion of Particular Products from Actions under Section 203 of the Trade Act of 1974 With Regard to Certain Steel Products; Conforming Changes and Technical Corrections to the Harmonized Tariff Schedule of the United States

AGENCY: Office of the United States Trade Representative.

ACTION: Notice.

SUMMARY: Pursuant to authority granted to the United States Trade Representative (USTR) in Presidential Proclamation 7529 of March 5, 2002 (67 FR 10553), the USTR has found that particular products should be excluded from actions under section 203 of the Trade Act of 1974 (19 U.S.C. 2253) (Trade Act) with regard to certain steel products, and is modifying subchapter III of chapter 99 of the Harmonized Tariff Schedule of the United States (HTS) as set forth in the annex to this notice to implement these exclusions. Pursuant to authority delegated to the USTR in Presidential Proclamation 6969 of January 27, 1997 (62 FR 4415), USTR is making technical corrections to subchapter III of chapter 99 of the Harmonized Tariff Schedule of the United States (HTS) as set forth in the annex to this notice. These modifications correct several inadvertent errors and omissions in the subheadings 9903.72.30 through 9903.74.24 of the HTS so that the intended tariff treatment is provided.

EFFECTIVE DATE: The modifications and corrections made in this notice are effective with respect to articles entered, or withdrawn from warehouse for consumption, on or after the dates set forth in each item in the annex to this notice.

FOR FURTHER INFORMATION CONTACT: Office of Industry, Office of the United States Trade Representative, 600 17th Street NW., Room 501, Washington DC, 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) certain flat steel, consisting of: Slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., EST, on March 20, 2002, Proclamation 7529 modified subchapter III of chapter 99 of the HTS so as to provide for such increased duties and a tariff-rate quota.

Proclamation 7529 also delegated to the USTR the authority to consider requests for exclusion of a particular product submitted in accordance with the procedures set out in 66 FR 54321, 54322-54323 (October 26, 2001) and, upon publication in the Federal Register of a notice of his finding that a particular product should be excluded, to modify the HTS provision created by the annex to that proclamation to exclude such particular product from the pertinent safeguard measure. On April 5, 2002, USTR published a notice in the Federal Register excluding four particular products from the safeguard measures, and modified the HTS accordingly.

I have further considered exclusion requests for certain products designated as X-004, X-010, X-011, X-018, X-021, X-022, X-025, X-032, X-035, X-039, X-046, X-048, X-059, X-061, X-072, X-075, X-077, X-083, X-088, X-089, X-090, X-093, X-100, X-104, X-108, X-109, X-110, X-113, X-116, X-119, X-120, X-122, X-128, X-134, X-142, X-143, X-147, X-160, X-162, X-172, X-177, X-186, X-187, X-188, X-194, X-196, X-213, and X-219. I have also considered exclusion requests for certain products designated N-300, N-303, N-313, N-316, N-319, N-321, N-377, N-387, N-392, N-426, N-454, N-455, N-456, N-467, N-491, N-495, N-499. I find that the exclusion from the safeguard measures established in Proclamation 7529 of certain steel products within these designations, as described in sections 2 and 3 of the annex to this notice, would not undermine the goals of those safeguard measures. Therefore, I find that these products should be excluded from those safeguard measures. Accordingly, under authority vested in the USTR by Proclamation 7529, I modify the HTS provisions created by the annex to Proclamation 7529 as set forth in the annex to this notice. Such modifications shall be embodied in the HTS with respect to goods entered, or withdrawn from warehouse for consumption, on or after March 20, 2002.

On March 19, 2002 and June 4, 2002, USTR published Federal Register notices (67 FR 12635 and 67 FR 38541, respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. The annex to this notice makes technical corrections to the HTS to remedy these errors and omissions. In particular, the annex to this notice corrects errors in the descriptions of the physical dimensions or chemical composition of certain products excluded from the application of the safeguard measures.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the date set forth in each item in the annex to this notice.

Robert B. Zoellick,
United States Trade Representative.

Annex

The HTS is modified as set forth in this annex, with bracketed matter included to assist in the understanding of the modifications. The following provisions supersede matter now in the Harmonized Tariff Schedule of the United States (HTS). The new subheading and superior text thereto being inserted by this notice are set forth in columnar format, and material in such columns is inserted in the columns of the HTS designated “Heading/Subheading”, “Article Description”, “Rates of Duty 1 General”, “Rates of Duty 1 Special”, and “Rates of Duty 2”, respectively. Individual subdivisions of U.S. note 11 to subchapter III of chapter 99 of the HTS set forth herein specify that quantities of the named goods may enter under the terms of such subdivisions during periods beginning on July 12, 2002; and such subdivisions and the associated subheadings shall be effective with respect to the specified goods entered, or withdrawn from warehouse for consumption, on or after 12:01 a.m., EDT, on July 12, 2002; other provisions of this notice likewise specify that they are effective on or after 12:01 a.m., EDT, on July 12, 2002. The remaining provisions of this notice shall be effective with respect to articles entered, or withdrawn from warehouse for consumption, on or after 12:01 a.m., EST, on March 20, 2002:

1. In order to make corrections in subchapter III of chapter 99 of the HTS, the following modifications shall be made in U.S. note 11 to such subchapter:

A. Subdivision (b)(viii)(A) is modified by deleting “0.245” and by inserting in lieu thereof “0.254”.

B. Subdivision (b)(xv), as modified by paragraph 9(E) of the notice published on June 4, 2002, is modified by inserting a comma after “nickel of 0.40 percent maximum”.

C. In annex paragraph 9(N) of such notice, “subdivision (b)(xxxii)(B)” is modified to read “subdivision (b)(xxxii)(C)”; and in subdivision (b)(xxxii)(C) the language “(imported under subheading 7209.16.00, 7209.18.15, 7209.18.25 or 7209.17.00)” is deleted;

D. Subdivision (b)(xxxv)(A) is modified by deleting all of the text starting with “tin-nickel layer” and by inserting in lieu thereof the following: “tin-nickel layer of 1.0 micrometer or more; tin layer of 0.05 micrometer or more; nickel-graphite layer over 0.2 micrometer, and bottom side: nickel layer of 1.0 micrometer or more;”.

E. Subdivision (b)(xxxv)(B) is modified by deleting all of the text starting with “tin-nickel layer” and by inserting in lieu thereof the following: “tin-nickel layer of 1.0 micrometer or more; nickel-graphite layer of 0.5 micrometer or more; bottom side: nickel layer of 1.0 micrometer or more;”.

F. Subdivision (b)(xxxv)(C) is modified by deleting all of the text starting with “nickel-graphite layer” and by inserting in lieu thereof the following: “nickel-graphite layer of 1.0 micrometer or more; bottom side: nickel layer of 1.0 micrometer or more;”.

G. Subdivision (b)(xxxv)(D) is modified by deleting all of the text starting with “nickel layer” and by inserting in lieu thereof the following: “nickel layer of 1.0 micrometer or more; nickel-phosphorus layer of 0.1 micrometer or more; bottom side: nickel layer of 1.0 micrometer or more;”.

H. Subdivision (b)(xxxv)(E) is modified by deleting all of the text starting with “nickel-tin-nickel” and by inserting in lieu thereof “nickel-tin-nickel combination layer of 1.0 micrometer or more; tin layer only of 0.05 micrometer or more; bottom side: nickel layer of 1.0 micrometer or more;”.

I. Subdivision (b)(xlii) is modified by deleting all of the text starting with “nickel-tin layer” and by inserting in lieu thereof the following: “nickel-tin layer of 1.0 micrometer or more; tin layer of 0.05 micrometer or more; bottom side: nickel layer of 1.0 micrometer or more; the foregoing designated as X-109;”.

J. In subdivision (liii), delete “in coils,”.

K. Annex paragraph 9(U) of the notice of June 4, 2002, is modified to read as follows: “In subdivision (b)(xlviii), “457.2 mm” is deleted and “457.0 mm” is inserted in lieu thereof;”.

L. Subheading 9903.73.45 is modified by deleting “11(b)(xi)” and by inserting in lieu thereof “11(b)(xi)(A)'; and subheadings 9903.73.45 and 9903.73.46, as inserted by paragraph 10(D) of such notice, are redesignated as 9903.73.46 and 9903.73.47, respectively.

M. The superior text to subheadings 9903.73.42 through 9903.73.52 is modified by deleting “with a height of 80 mm or more” and by inserting “with any linear dimension of 80 mm or greater when measured through a solid portion of the cross section”.

2. In order to provide that additional categories of goods related to existing exclusions are excluded from the actions taken in Presidential Proclamation 7529 and that needed clarifications are made, U.S. note 11(b) to subchapter III of chapter 99 of the HTS is further modified as follows:

A. Subdivision (b)(xi) is deleted and replaced by:

“(xi) Products designated as X-083, with the following characteristics:

(A) Products known as “Superplast SP 300,” the foregoing which are plates, pre-forged and rolled blocks or forged extra-heavy section blocks, with thickness of 152 and 1270 mm, inclusive, widths of 1990 mm, and lengths of 3048 to 3810 mm, inclusive; containing, by weight, carbon of between 0.235 and 0.265 percent, chromium of between 1.20 and 1.40 percent, manganese of between 1.20 and 1.40 percent, nickel of 0.30 percent maximum, molybdenum of between 0.35 and 0.45 percent, silicon of between 0.05 and 0.15 percent, boron of between 0.002 and 0.004 percent and sulphur of between 0.015 and 0.020 percent; with oxygen of 20 ppm (parts per million) and hydrogen of 2 ppm; if measuring between 152 and 203 mm displaying through hardness of 269 to 320 Brinnell, with a maximum dispersion of 15 bhn throughout; if measuring 203 and 1270 mm having through hardness of 290 to 320 Brinnell, with a maximum dispersion of 30 bhn throughout; all such products conforming to ultrasonic testing requirements of American Society of Testing and Materials (ASTM) A578-S9, with a 2 mm flat bottom hole, and homogenous product (free of hardspots) cleanliness guaranteed per ASTM E45 method A, worst field ratings A: 1.5 maximum, B: 1.5 maximum, C: 1.0 maximum and D: 1.5 maximum;

(B) Flat-rolled products imported in condition as specified in ASTM/ASME A353 (as rolled) or ASTM/ASME A553 (quenched and tempered), thickness of 4.75 mm or greater, minimum Charpy impact energies at −196° § C of 90 J (longitudinal) and 80 J (transverse), manufactured in compliance with the European material standard EN 10028-Part 4 and the required certification EN 10204 3.1.A; with chemical composition (percent by weight): carbon 0.13 maximum, manganese 0.90 to 0.98, phosphorus 0.015 maximum, sulfur 0.01 maximum, silicon 0.13 to 0.45 and nickel 8.40 to 9.60; or

(C) Flat-rolled products having a width not over 600 mm, not further worked than hot rolled, of a thickness of 4.75 mm or greater, containing by weight 24 percent or more of nickel with or without other elements and composed according to specification ASTM F15;”

B. Subdivision (b)(xx) is deleted and replaced by:

“(xx) Flat-rolled, hot-rolled products designated as X-116, as described below:

(A) Products not further processed than hot-rolled, of the grade known as “ALFORM” or “ALFORM 890/900,” of a thickness of not over 4.75 mm, whether in coils or in cut-to-length form (provided for in subheading 7225.30.70 or 7225.40.70);

(B) Products of grade SAE 8667, with chemical composition (percent by weight): carbon 0.61 to 0.72, chromium 0.20 to 0.35, manganese 0.30 to 0.50, molybdenum 0.08 to 0.15, nickel 0.20 to 0.35, phosphorus 0.025 maximum, sulfur 0.025 maximum and silicon 0.20 to 0.35; hot-rolled, pickled and oiled in coils; according to specification OCS-1; silicon-aluminum killed, without welds; fine austenitic grain; thickness: 2.26 mm or 3.18 mm or 4.36 mm, thickness tolerances ±0.090 mm; conicity measured at 40 mm from edge; thickness tolerances for remainder ±0.18 mm; and width of 1,028.7 mm to 1,033.55 mm;

(C) Grade SAE 8667, hot-rolled, pickled and oiled products in coils; silicon-aluminum killed, without welds, fine austenitic grain; thickness 2.29 mm, thickness tolerances ±0.090 mm; conicity measured at 40 mm from edge, 0.090 mm for 95 percent of coil length, thickness tolerances for remainder ±0.18 mm, width 1028.7 mm. −0.00 mm/+4.75 mm; with chemical composition (percent by weight): carbon 0.61 to 0.72, chromium 0.40 to 0.60, manganese 0.35 to 0.55, molybdenum 0.10 to 0.20, nickel 0.60 to 0.90, phosphorus 0.025 maximum, sulfur 0.025 and silicon 0.20 to 0.35; or

(D) Pickled and oiled products in coils, silicon-aluminum killed, grade 1050 mod. according to SAE J403-92; tolerances according to ASTM A568/91A, no welds, thickness tolerances ±0.13mm, thickness/width combinations: not over 1.98 mm/927.10 mm or not over 2.28 mm/1146 mm; with chemical composition (percent by weight): aluminum 0.02 to 0.07, carbon 0.51 to 0.55, chromium not over 0.05, manganese 0.78 to 0.90, phosphorus 0.012 maximum, sulfur 0.003 maximum and silicon 0.20 to 0.30; cleanliness: inclusions not to exceed 15,000 per Wallace Barnes (approximately 12 maximum Stringer Type per ASTM); free of primary and secondary pipe, lamination, seams, laps, rolled in scale, harmful segregation (¼ point) and other defects injurious to final product integrity;'

C. Subdivision (b)(xxiii) is deleted and replaced by:

“(xxiii) Hot-rolled flat-rolled products designated as X-142, meeting the following characteristics:

(A) Products known in industry usage as “SCM 415,” with chemical composition (percent by weight): carbon 0.13 to 0.18, silicon 0.15 to 0.35, manganese 0.60 to 0.85, phosphorus not over 0.03, sulfur not over 0.03, chromium 0.90 to 1.20, molybdenum 0.15 to 0.30; hardness: HRB of not over 87; tensile strength of 500 N/mm2 or greater; elongation of 30 percent or more; yield ratio of not over 80 percent; thickness: 2.6 to 4.0 mm; width: 1066 mm to 1321 mm; and with edge: square cut edge free of burrs, rice marks, protrusions or damage;

(B) Products having widths greater than 914 mm, certified by the importer to have had ladle chemical analysis (percent by weight): carbon 0.56 to 0.64, manganese 0.75 to 1.00, nickel 0.40 to 0.70 and molybdenum 0.15 to 0.25; or

(C) Products meeting ASTM A506 (Modified UNS G41180), with chemical composition (percent by weight): manganese 0.60 to 0.90, chromium 0.55 to 0.75, silicon 0.30 to 0.45, copper 0.20, molybdenum 0.10 to 0.15, carbon 0.13 to 0.18, sulfur not over 0.005, phosphorus not over 0.025, niobium (columbium) 0.02 to 0.04, nickel not over 0.10; thickness of 1.55 mm or more but not over 3.76 mm; calcium refinement; half gauge tolerance ±0.115 mm; with coil size of 900 to 1,200 kg per cm width with no more than 10 percent of the coils between 600 and 900 kg per cm width;' D.Subdivision (b)(xxv) is deleted and the following new provisions are inserted in lieu thereof:

“(xxv) Cold-rolled products designated as X-010, as described below:

(A) Blue finish band saw steel meeting the following characteristics: Thickness not over 1.31 mm; width not over 80 mm; chemical composition (percent by weight): carbon 1.2 to 1.3, silicon 0.15 to 0.35, manganese 0.20 to 0.35, phosphorus not over 0.03, sulfur not over 0.007, chromium 0.30 to 0.5 and nickel not over 0.25; with the following other properties: carbides fully spheroidized, having greater than 80 percent of carbides, which are not over 0.003 mm and uniformly dispersed; surface finish is blue finish free from pits, scratches, rust, cracks, or seams; smooth edges; edge camber (in each 300 mm of length) of not over 7 mm arc height; and cross bow (per mm of width) of 0.015 mm maximum;

(B) Bright or blue finished band saw steel, if entered in an aggregate annual quantity not to exceed 250 t during the 12-month period beginning on July 12, 2002 or July 12, 2003 or during the period July 12, 2004 through March 20, 2005, inclusive, and meeting the following characteristics: cold-rolled, heat treated with fine spheroidized structure, edge machined, corner radius 45 degrees, controlled dish to 0.375 mm per 25.4 mm maximum; straightness 6.35 mm in 3,048 mm, supplied in coils of matched length and in sets; with chemical composition (percent by weight): carbon 0.70 to 0.80, silicon 0.10 to 0.30, manganese 0.60 to 0.85, chromium 0.20 to 0.30, sulfur 0.025 maximum and phosphorus 0.025 maximum; meeting ASTM E45 3.0/3.5 CT for cleanliness and with grain size 5 to 8 according to ASTM E112; thickness not over 1.25 mm and width not over 42 mm;

(C) Bandsaw steel, if entered in an aggregate annual quantity not to exceed 163 t during the 12-month period beginning on July 12, 2002 or July 12, 2003 or during the period July 12, 2004 through March 20, 2005, inclusive, the foregoing meeting the following characteristics: cold-rolled, with a fully spheroidized uniform pinpoint carbide structure in a ferrite matrix; cleanliness meeting ASTM E45 CT3.6 maximum; edges machined square and decornered; dish 0.025 mm maximum per 25.4 mm of width, straightness 6.35 mm in 3,048 mm, surface finish to be uniform through each coil, face to face and coil to coil, hardness 300-350 VPN; with chemical composition (percent by weight): carbon 0.65 to 0.74, silicon 0.20 to 0.35, manganese 0.30 to 0.50, sulfur 0.025 maximum, phosphorus 0.025 maximum, chromium 0.40 to 0.60, nickel 0.60 to 0.90 and molybdenum 0.08 to 0.15; thickness not over 1.1 mm and width not over 35 mm;

(D) Flat-rolled steel with the following characteristics: commercially designated as “B82”, cold-rolled, hardened and tempered, leather polished (heavy grain), hardness HRC 38 to 54, finish to be consistent coil to coil and face to face; capable of passing tooth setting bend test without fracture; with chemical composition (percent by weight): carbon 0.70 to 0.80, manganese 0.65 to 0.85, sulfur 0.008 maximum and phosphorus 0.018 maximum; dish 0.025 mm maximum per 25.4 mm of width; cleanliness meeting ASTM E45M 3.5CT, grain size 5 to 8 ASTM E112, tempered martensite microstructure free from segregation or banding, after polishing the product may be naturally colored blue, bronze or gold, thickness not over 2.30 mm and width not over 375 mm; or

(E) Cold-rolled, flat-rolled steel, if entered in an aggregate annual quantity not to exceed 340 t during the 12-month period beginning on July 12, 2002 or July 12, 2003 or during the period July 12, 2004 through March 20, 2005, inclusive, and with the following characteristics: cleanliness meeting ASTM E45M 3.5CT; grain size 5 to 8 by ASTM E112; hardened and tempered within the range HRC 43 to 54; with chemical composition (percent by weight): carbon 0.98 to 1.05, manganese 0.30 to 0.50 and sulfur 0.015 maximum; dish 0.025 mm maximum per 25.4 mm of width; scaleless, heavy gauge leather polished or blue, whether or not edge machined; width of 150 mm or less and thickness of not over 2.35 mm;'

E. Subdivision (b)(xxxi) is deleted and the following new provisions are inserted:

“(xxxi) Cold-rolled flat-rolled steel designated as X-083, with the following characteristics:

(A) Products not further worked than cold-rolled, less than 4.75 mm in thickness; containing, by weight, at least 14 percent nickel or 25 percent cobalt, with or without other elements; controlled expansion alloys are composed according to specifications ASTM F15, ASTM F30, ASTM B753 ASTM F1684; magnetic alloys composed according to specifications ASTM A753 or ASTM A801; or

(B) Products of grade C1095/SAE1095, if entered in an aggregate annual quantity not to exceed 12,000 t during the 12-month period beginning on July 12, 2002 or July 12, 2003 or during the period July 12, 2004 through March 20, 2005, inclusive, and with chemical composition (percent by weight): carbon of 0.90 to 1.04, manganese 0.30 to 0.50, phosphorus 0.025 maximum, sulfur 0.015 maximum and silicon 0.15 to 0.25; thickness 0.254 mm to 2.324 mm; width 914.4 mm to 1320.8 mm; spheroidized annealed; thickness tolerance of half the ASTM A568 standard or less; and HRB hardness HRB 90 maximum;'

F. In subdivision (b)(xxxii) is modified by striking “or” at the end of subdivision (b)(xxxii)(C)(XV), by inserting “or” at the end of subdivision (b)(xxxii)(D), and the following new subdivision is inserted thereafter:

“(E) Products with thickness 1.07 mm or more but not over 3.05 mm, width 130 mm or more but not over 413 mm; with chemical composition (percent by weight): carbon 0.67 to 0.80, silicon 0.20 to 0.35, manganese 0.30 to 0.50, nickel 1.90 to 2.20, chromium 0.10 to 0.20, phosphorus not over 0.03, sulfur not over 0.015 and copper not over 0.15; flatness tolerance of ±0.001 mm per millimeter of product width; straightness of product (camber): short camber ±0.2997 mm over 1,016 mm, long camber: ±0.7620 mm over 3,048 mm; edge finish: square smooth edges free of burrs; surface finish: smooth surface of Ra 0.4-0.8 micrometer on both sides; hardened and tempered, bright finished random length coils; microstructure: evenly tempered martensitic structure free of carbide network; and no decarburization;'

G. (i) In subdivision (xxxiv)(C), the language “width 12.6365 mm, polished surface, tensile strength 1,696 MPa—2,096 MPa” is deleted and “width 12.6365 mm plusmn;0.0508 mm, polished surface, tensile strength 1,560 MPa minimum” is substituted in lieu thereof;

(ii) In subdivision (xxxiv), delete the final word “or” from subdivision (E) and insert the following new subdivisions in alphabetical sequence:

“(G) Flat-rolled products, Eberle 18, Eberle 18C (SAE1095 modified steel), thickness not over 1.0 mm; width not over 152.4 mm; with chemical composition (percent by weight): carbon 0.90 to 1.05, silicon 0.15 to 0.35,manganese 0.30 to 0.50, phosphorus 0.03 maximum and sulfur 0.006 maximum; mechanical properties: ultimate tensile strength at least 1590 N/mm2, hardness greater than or equal to 475 Vickers hardness; physical properties: flatness less than 0.2 percent of the product width; microstructure: completely free from decarburization, carbides are spheroidal and fine within 1 percent to 4 percent (area percentage) in the uniform termpered martensite; non-metallic inclusions: sulfide inclusions with area percentage not over 0.04, and oxide inclusions with area percentage not over 0.05; and surface roughness Ra 0.13 micrometer, Rmax 1.5 micrometers;

(H) Flat-rolled products, with chemical composition (percent by weight): carbon 0.98 to 1.05, silicon 0.15 to 0.30, manganese 0.4 to 0.6, sulfur 0.005 maximum, phosphorus 0.2 maximum, aluminum 0.01 maximum, chromium 0.15 to 0.4, copper 0.15 maximum and nickel 0.15 maximum; width 12.7 mm or more but not over 508 mm, thickness 0.1143 mm or more but not over 0.1422 mm, inclusive, thickness tolerance +/-0.005 mm, edges deburred; tensile strength 1000 to 1100 N/mm2; and hardened and tempered with hardness HV 580 to 650;

(I) Flat-rolled products, Eberle 18, Eberle 18C (SAE1095 modified steel), having a width not over 152.4 mm and thickness 0.254 mm to 0.889 mm; bright polished, unpolished or blue polished surface, surface roughness Rtmax 3.0 micrometer; ultimate tensile strength 1696 MPa +/-310 ksi; edges deburred or machined; with chemical composition (percent by weight): carbon 0.90 to 1.05, silicon 0.15 to 0.35, manganese 0.30 to 0.50, phosphorus 0.03 maximum and sulfur 0.006 maximum;

(J) Ski edge profiles, grade SAE 1070 or German grade X35CrMo17, the foregoing with chemical composition (percent by weight) for X35CrMo17 being carbon 0.33 to 0.45, silicon 1.0 maximum, manganese 1.50 maximum, phosphorus 0.04 maximum, sulfur 0.025 maximum, chromium 15.5 to 17.5, molybdenum 0.8 to 1.3 and nickel 1.0 maximum; hardened and tempered to 45 to 52 HRC; bright surface or primer coated and stamped according to drawing;

(K) Products described in industry usage as finally annealed electrical steel strip, the foregoing being flat-rolled silicon steel, coated with an insulating laquer modified according to customer's specification (C3/C5 type), low thickness deviation across the width (value for 0.50 mm thick material: maximum 0.02 mm, value for 0.65 mm thick material: maximum 0.03 mm); grade: finally annealed electrical steel product according to EN 10106 (specific grades: M530-50A, M530-65A with customer specified maximum core losses of 6.05 W/kg P 1.5 at 60 Hz and 5.80 W/kg P 1.5 at 60 Hz); finally annealed and coated; thickness 0.50 mm to 0.65 mm and width 1,250 mm maximum; or

(L) Products described in industry usage as doctor blade steel for the printing industry, with thickness 0.076 to 0.25 mm and width 70 mm maximum; straightness deviation 0.6 mm per 3000 mm; commercial grade UHB 20 C; with chemical composition (percent by weight): carbon 0.95 to 1.05, silicon 0.20 to 0.35, manganese 0.20 to 0.50, phosphorus 0.015 maximum and sulfur 0.010 maximum; with the end product having tight straightness, flatness and a fine dispersed microstructure of high purity, heat-treated;

(M) Hardened and tempered cold-rolled products, meeting AISI 1075; with thickness of 0.2 mm to 3.0 mm to meet Swedish T5 thickness tolerance; width of 622 mm to 1,016 mm; with chemical composition (percent by weight): carbon 0.70 to 0.80, silicon 0.15 to 0.30, manganese 0.50 to 0.7, phosphorus not over 0.020, sulfur not over 0.010, aluminum not over 0.020 and chromium 0.31 to 0.50;

(N) Products meeting AISI 1075, with thickness of 0.2 mm to 3.0 mm to meet Swedish T5 thickness tolerance; width of 622 mm to 1,016 mm; with chemical composition (percent by weight): carbon 0.97 to 1.03, silicon 0.15 to 0.30, manganese 0.40 to 0.50, phosphorus not over 0.020, sulfur not over 0.005, aluminum not over 0.020 and chromium 0.31 to 0.50;

(O) Products having a thickness of 0.5 mm to 3.5 mm and width of 50 mm to 650 mm; roughness: Ra (RMS) maximum 0.2 micrometer; with chemical composition (percent by weight): carbon 0.70 to 0.80, silicon 0.15 to 0.35, manganese 0.30 to 0.50, phosphorus not over 0.020, sulfur not over 0.010, aluminum not over 0.020, chromium 0.05 to 0.30 and nickel 1.90 to 2.20;”.

H. In subdivision (b)(xxxv), the word “or” is deleted at the end of (b)(xxxv)(D), “or” is inserted at the end of (b)(xxxv)(E), and the following new subdivision is inserted in alphabetical sequence:

“(F) Flat-rolled products, with unalloyed nickel plated coating measuring not over 5 microns per side with coating on one side at least 2 microns in thickness; with cold-rolled substrate known in industry usage as commercial grade battery grade sheet and having a thickness from 0.10 mm to 0.762 mm; the foregoing substrate with the following chemical composition (percent by weight): carbon not over 0.08, manganese not over 0.45, phosphorus not over 0.02, sulfur not over 0.02, aluminum not over 0.15 and silicon not over 0.10; with such substrate having the following mechanical specifications: tensile strength not to exceed 448 MPa, yield strength from 220 to 379 MPa, minimum elongation of 18 percent, Vickers hardness of 85 to 150, equiaxed or pancake with grain type size (ASTM) from 7 to 12 with delta r value ±0.2 and a lankford value greater than or equal to 1.2;”.

I. The word “or” is deleted at the end of subdivision (b)(xliv)(A), and the following new provisions are inserted in alphabetical sequence in subdivision (b)(xliv):

“(C) Single-reduced, tin-coated steel, entered in an aggregate annual quantity not to exceed 36,000 t during the 12-month period beginning on July 12, 2002 or July 12, 2003 or during the period July 12, 2004 through March 20, 2005, inclusive, the foregoing of a width of 1,138.2375 or more but not over 1,141.4125 mm; with thickness range of 0.260 mm to 0.270 mm (95 pound base box) or 0.267 mm to 0.278 mm (97 pound base box); 1.7/1.7 g/m\2\ tin coating, Type L, T3.5 CA, low chromium; or

(D) Electrolytically tin plated steel, entered in an aggregate annual quantity not to exceed 40,000 t during the 12-month period beginning on July 12, 2002 or July 12, 2003 or during the period July 12, 2004 through March 20, 2005, inclusive, the foregoing meeting one of the following ASTM specifications: A623, A623M, A624 or A624M and having the following additional properties: width either 1,071 mm or more but not over 1,074 mm or 1,202 mm or more but not over 1,205 mm; T4 temper; thickness of one or more of the following gauges: 0.280 mm, 0.300 mm, 0.315 mm, 0.325 mm or 0.355 mm; continuously annealed; standard shot blasted surface finish; chemistry of type L, oiled with acetyltributyl citrate (ATBC), tin plate coating weight of 2.2 g/m² for one side and 3.4 g/m² for the opposite side; matte finish; and utilizing clean steel practices;”

J. Subdivision (b)(l) is modified by deleting “200,000 metric tons,” and by inserting in lieu thereof “200,000 t during the 12-month period beginning on March 20, 2002 or March 20, 2003 or during the period from March 20, 2004 through March 20, 2005, inclusive, under subheading 9903.72.75,”; and by deleting “50,000 metric tons,” and by inserting in lieu thereof “50,000 t during the 12-month period beginning on March 20, 2002 or March 20, 2003 or during the period from March 20, 2004 through March 20, 2005, inclusive, under subheading 9903.72.76,”.

K. Effective with respect to goods entered, or withdrawn from warehouse for consumption, on or after July 12, 2002 and through the close of the period specified in U.S. note 11(a) to subchapter III of chapter 99, the superior text to subheadings 9903.73.88 through 9903.73.95 is modified by deleting “, other than fittings not machined, not tooled and not otherwise processed after forging”.

3. In order to provide that additional groups of products shall be excluded from the import relief, U.S. note 11(c) is modified by inserting immediately after the last sentence the following additional sentence and the subordinate paragraphs set forth herein:

“For purposes of this paragraph, the following goods shall be excluded from the application of relief under the subheadings referred to in paragraph (a) of this note:

(i) Cold-rolled, flat-rolled steel, designated as X-110, meeting the following characteristics:

(A) Grade 20C products, entered in an aggregate annual quantity not to exceed 45,000 t during the 12-month period beginning on July 12, 2002 or July 12, 2003 or during the period July 12, 2004 through March 20, 2005, inclusive, the foregoing hardened and tempered, with thickness 0.102 mm or more but not over 1.20 mm and width not over 355.6 mm; tensile strength from 1600 N/mm\2\ to 2100 N/mm\2\ with a tolerance ±80 N/mm\2\; hardness 480 to 615 HV; thickness tolerance of T3 if thickness not over 0.381 mm, T2 if thickness over 0.381 mm but not over 0.508 mm, and T1 if over 0.508 mm but not over 1.194 mm; and flatness tolerance of 0.20 percent of product width;

(B) Grade 20C products, entered in an aggregate annual quantity not to exceed 5,700 t during the 12-month period beginning on July 12, 2002 or July 12, 2003 or during the period July 12, 2004 through March 20, 2005, inclusive, the foregoing hardened and tempered, with thickness 0.102 mm or more but not over 0.635 mm; width 12.7 mm or more but not over 355.6 mm; tensile strength ranging 1750 N/ mm\2\ to 2100 N/mm\2\ with tolerance ±80 N/mm\2\; hardness 520 to 615 HV, thickness tolerance of T3, width tolerance of B1, flatness tolerance of 0.30 percent of product width, straightness tolerance of R2, minimal surface defects with a maximum depth of 5 micrometers, and maximum scratch depth of 2.0 micrometers;

(C) Steel known in industry usage as flapper valve steel, entered in an aggregate annual quantity not to exceed 17,500 t during the 12-month period beginning on July 12, 2002 or July 12, 2003 or during the period July 12, 2004 through March 20, 2005, inclusive, the foregoing hardened and tempered, surface polished; thickness not over 1.0 m;, width not over 355.6 mm; with chemical composition (percent by weight): carbon 0.90 or more but not over 1.05, silicon 0.15 or more but not over 0.35, manganese 0.30 or more but not over 0.50, phosphorus 0.03 maximum, sulfur 0.006 maximum, tensile strength 162 kgf/mm\2\ minimum; hardness 475 minimum Vickers hardness number; flatness less than 0.2 percent of product width; microstructure: completely free from decarburization; carbides spheroidal and fine and within 1 percent to 4 percent (area percentage) in uniform tempered martensite; sulfide inclusions with area percentage not over 0.04 percent and oxide inclusion with area percentage not over 0.05 percent; compressive stress: 10 to 40 kgf/mm\2\; surface roughness specifications: if thickness is not over 0.209 mm, will have roughness (RZ) not over 0.5 micrometer; if thickness is over 0.209 mm but not over 0.310 mm, will have roughness (RZ) of not over 0.6 micrometer; if thickness is over 0.310 mm but not over 0.440 mm, will have roughness (RZ) of not over 0.7 micrometer; if thickness is over 0.440 mm but not over 0.560 mm, will have roughness (RZ) of not over 0.8 micrometer; if thickness if over 0.560 mm, will have roughness (RZ) of not over 1.0 micrometer; or

(D) Flat-rolled steel, with chemical composition (percent by weight): carbon 0.70 or more but not over 0.80, silicon 0.20 or more but not over 0.35, manganese 0.30 or more but not over 0.45, chromium 0.05 or more but not over 0.17, nickel 1.85 or more but not over 2.15, phosphorus 0.018 maximum, sulfur 0.005 maximum; hardened and tempered, bright and polished; thickness 0.60 mm or more but not over 3.05 mm; width 16.0 mm or more but not over 412.8 mm; tensile strength 1290 N/mm\2\ minimum; hardness 40 HRC minimum; with square and smooth edges; free from surface defects; thickness tolerance of T1 according to Swedish Standard 21 21 11 as in effect on March 20, 2002 and certified by the importer to meet such standard; and maximum unflatness of 0.10 percent of the product width;

(ii) Cold-rolled flat-rolled deep drawing enameling steel, designated as X-119, with the characteristics specified for ASTM A-424 Type 3, interstitial-free; with chemical composition (percent by weight): carbon 0.02 maximum, titanium 0.05 minimum, manganese 0.35 maximum, phosphorus 0.020 maximum, and sulfur 0.030 maximum; with surface roughness 2.29 to 3.07 micrometers; dry (no oil on surface); hardness 24-45 HRB;

(iii) Cold-rolled, flat-rolled steel, designated as X-122, meeting the characteristics described below:

(A) Dual phase steel products with dispersed martensitic islands in mainly ferrite matrix, thickness 0.60 mm to 1.75 mm; width 800 mm to 1600 mm; with chemical composition (percent by weight): carbon 0.06 to 0.14, silicon 0.20 maximum, manganese 1.0 to 2.0, phosphorus 0.04 maximum and sulfur 0.015 maximum; yield strength 340 to 410 MPa, tensile strength over 600 MPa and elongation over 20 percent; or

(B) Products with up to 50 percent martensite in ferrite matrix, thickness 0.80 mm to 1.60 mm; width 1,000 mm to 1,400 mm; with chemical composition (percent by weight): carbon 0.10 to 0.18, silicon 0.80 maximum, manganese 1.5 to 2.0, phosphorus 0.05 maximum, sulfur 0.03 maximum, aluminum 0.02 to 0.05, chromium 0.60 maximum, titanium 0.08 to 0.15; yield strength 600 to 760 MPa, tensile strength 800 MPa or more and elongation greater than 10 percent;

(iv) Alloy bar, not further worked than hot-rolled, designated as X-147, meeting the characteristics described below:

(A) ASTM grade 8620Te products, entered in an aggregate annual quantity not to exceed 2,100 t during the 12-month period beginning on July 12, 2002 or July 12, 2003 or during the period July 12, 2004 through March 20, 2005, inclusive, the foregoing certified by the importer as meeting the following characteristics: tellurium content to achieve a sulfide mean aspect ratio of 5:1 maximum; reduction ratio of 16:1 minimum, achieved through continuous bloom casting at 560 x 400 mm; fully surface inspected and certified by the producer to be free from defects deeper than 0.75 percent of bar diameter; certified as free from mixes, achieved by 100 percent spectrometer testing; or

(B) ASTM grade 5150Te products, certified to meet the following characteristics: tellurium content to achieve a sulfide mean aspect ratio of 5:1 maximum; reduction ratio of 16:1 minimum, achieved through continuous bloom casting at 560 x 400 mm; fully surface inspected and certified by the producer to be free from defects deeper than 0.75 percent of bar diameter; certified as free from mixes, achieved by 100 percent spectrometer testing;

(v) Hot-rolled flat-rolled steel, designated as X-025, in coils, with chemical composition (percent by weight): carbon 0.10 to 0.14, manganese 0.90 maximum, phosphorus 0.025 maximum, sulfur 0.002 maximum, silicon 0.30 to 0.50, chromium 0.50 to 0.70, copper 0.20 to 0.40 and nickel 0.20 maximum; width not over 1,138 mm, thickness 1.60 to 5.03 mm; minimum yield strength 344 N/mm²; tensile strength of 482 to 607 N/mm²; thickness tolerance according to half of ASTM 568 specification; minimum elongation 22 percent; hardness 79 to 89 HRB; pickled and oiled; surface condition free of injurious defects such as holes, breaks, scabs, scale, and embosses;

(vi) Hot-rolled flat-rolled steel designated as X-072, with characteristics described below:

(A) Products in coils, with chemical composition (percent by weight): carbon 0.90 to 1.30, manganese 0.425 to 0.575, phosphorus 0.020 maximum, sulfur 0.020 maximum, silicon 0.020 maximum, aluminum 0.025 to 0.060, nitrogen 0.0030 to 0.0050, copper 0.040 maximum, tin 0.010 maximum, chromium 0.040 maximum, nickel 0.040 maximum, molybdenum 0.010 maximum, niobium (columbium) 0.005 maximum, vanadium 0.005 maximum, boron 0.0005 maximum and titanium 0.005 maximum; minimum yield strength 248 MPa, minimum tensile strength 345 MPa, minimum elongation 30 percent in 50.8 mm; if pickled and oiled, in dimensions of: thickness of 2.79 mm (minus 0, plus 0.40 mm) and width over 1,879.6 mm; thickness of 3.81 (minus 0, plus 0.40 mm) and width 1,930.4 mm or more, thickness of 2.31 mm (minus 0, plus 0.40 mm) and width 1,936.75 mm or more; or if not pickled and oiled, in dimensions of: thickness of 2.79 mm (minus 0, plus 0.40 mm) and width over 1,879.6 mm, thickness of 3.81 (minus 0, plus 0.40 mm) and width over 1,943.1mm; thickness of 2.31 mm (minus 0, plus 0.40 mm) and width 1,936.75 mm or more;

(B) Products in coils, whether or not pickled & oiled, with chemical composition (percent by weight): carbon 0.015 to 0.030, manganese 0.140 to 0.200, phosphorus 0.017 maximum, sulfur 0.010 maximum, silicon 0.024 maximum, aluminum 0.040 to 0.080, nitrogen 0.0040 maximum, copper 0.040 maximum, tin 0.010 maximum, chromium 0.040 maximum, nickel 0.040 maximum, molybdenum 0.010 maximum, niobium (columbium) 0.005 maximum, vanadium 0.005 maximum, boron 0.0005 maximum and titanium 0.005 maximum; yield strength 170 to 210 MPa, tensile strength 300 to 325 MPa, minimum elongation 40 percent in 50.8 mm; thickness 2.79 mm (minus 0, plus 0.40 mm) and width over 1,943.1 mm; or

(C) Products in coils, with chemical composition (percent by weight): carbon 0.045 to 0.094, manganese 0.445 to 0.554, phosphorus 0.020 maximum, sulfur 0.005 maximum, silicon 0.030 maximum, aluminum 0.015 to 0.055, nitrogen 0.0050 maximum, copper 0.040 maximum, tin 0.010 maximum, chromium 0.040 maximum, nickel 0.040 maximum, molybdenum 0.010 maximum, niobium (columbium) 0.020 to 0.030, vanadium 0.005 maximum, boron 0.0005 maximum and titanium 0.005 maximum; minimum yield strength 345 MPa, minimum tensile strength 414 MPa, minimum elongation 26 percent in 50.8 mm; if pickled and oiled, in dimensions of thickness of 3.50 mm (minus 0, plus 0.40 mm) and width 1,936.75 mm or more; or if not pickled and oiled, in dimensions of thickness of 3.50 mm (minus 0, plus 0.40 mm) and width of over 1,943.1 mm;

(vii) Hot-rolled flat-rolled steel, designated as X-119, with thickness 4 mm or more but not over 13 mm, width 400 mm or more but not over 470 mm; with chemical composition (percent by weight): carbon not over 0.12, silicon not over 0.6, manganese not over 2.1, phosphorus not over 0.025, sulfur not over 0.015, aluminum greater than or equal to 0.02, with a maximum of the following microalloying elements: niobium (columbium) 0.09, vanadium 0.20, titanium 0.22, molybdenum 0.50 and boron 0.005; minimum yield strength of 758 MPa in both longitudinal and transverse rolling directions, minimum tensile strength of 814 MPa, Charpy impact values greater than or equal to 17J at −40° C; elongation greater than or equal to 15 percent; bendability 1.125 times thickness (minimum);

(viii) Hot-rolled flat-rolled steel, not clad or plated or coated, not further worked than hot-rolled, with thickness of 1.9 mm or more but not over 3.1 mm and width over 254 mm but not over 343 mm; the foregoing designated as X-172 and meeting the following characteristics:

(A) Products with chemical composition (percent by weight): carbon 0.78 to 0.83, manganese 0.40 to 0.50, phosphorus 0.020 maximum, sulfur 0.008 percent maximum, silicon 0.15 to 0.25, chromium 0.05 to 0.15, copper 0.11 maximum, tin 0.020 maximum and aluminum 0.020 to 0.060; with the following other properties: non-metallic inclusion rating; ASTM E45 Method—A, plate—1 (thin series only, no heavy series allowed), A-2 maximum, B-1 maximum, C-1 maximum, D-1 maximum; DIN 50 602 Method M Plate—1: SS—maximum—3, OA—maximum 1, OS—maximum 1, OG—maximum 2; microstructure: banding—#1 maximum; decarburization complete (free ferrite) 0.012 mm maximum, total (complete + partial) 0.05 mm maximum, carbide size #5 maximum, grain size minimum #7; pickled, ingot cast; hardness HRB 100 maximum;

(B) Products with chemical composition (percent by weight): carbon 0.90 to 1.05, manganese 0.30 to 0.50, phosphorus 0.025 maximum, sulfur 0.008 maximum, silicon 0.15 to 0.30, chromium 0.10 to 0.25, aluminum 0.02 maximum, molybdenum 0.02 to 0.05, copper 0.05 to 0.20 and nickel 0.05 to 0.20; with the following other properties: non-metallic inclusion rating; ASTM E45 Method—A, plate—1 (thin series only, no heavy series allowed), A—2 maximum, B-2 maximum, C-2 maximum, D-2 maximum; microstructure: banding—none; complete decarburization 0.012 mm maximum, total decarburization 0.025 mm maximum; carbide size—#5 maximum (minimum 95 percent spheroidization is required); grain size minimum #7; pickled, ingot cast; hardness HRB 95 maximum;

(C) Products with chemical composition (percent by weight): carbon 0.90 to 1.05, manganese 1.00 to 1.20, phosphorus 0.020 maximum, sulfur 0.007 maximum, silicon 0.15 to 0.35, chromium 0.50 to 0.70, vanadium 0.05 to 0.15, aluminum 0.060 maximum; with the following other properties: non-metallic inclusion rating; ASTM E45 Method—A, plate—1, Thin Series: A-2.5 maximum, B-2.0 maximum, C-2.0 maximum, D-2.0 maximum, Thick Series: A-0.0 maximum, B-0.5 maximum, C-0.5 maximum, D-0.0 maximum; microstructure: banding—none, complete decarburization (free ferrite) 0.012 mm maximum, total (complete + partial) 0.05 mm maximum, carbide size #6 maximum, grain size ASTM #7 or finer; pickled, ingot cast, annealed, hardness HRB 100 maximum;

(D) Products with chemical composition (percent by weight): carbon 0.68 to 0.80, manganese 0.55 to 0.75, phosphorus 0.020 maximum, sulfur 0.015 maximum, silicon 1.30 to 1.50, chromium 0.30 to 0.50, copper 0.20 maximum; with the following other properties: non-metallic inclusion rating: ASTM E45—Method A, Plate—1, A-2 maximum, B-2 maximum, C-2 maximum, D-2 maximum; microstructure: banding—#1 maximum, complete decarburization 0.012 mm maximum, total decarburization 0.05 mm maximum, uniformly spheroidized with pin point carbides, carbide size #3 maximum, grain size minimum #7; pickled, ingot cast; hardness HRB 94 maximum;

(E) Products with chemical composition (percent by weight): carbon 0.30 to 0.35, manganese 0.65 to 0.80, phosphorus 0.015 maximum, sulfur 0.010 maximum, silicon 0.30 to 0.45, copper 0.20 maximum, nickel 0.30 to 0.90, chromium 3.00 to 3.20, molybdenum 2.00 to 2.20, vanadium 0.30 to 0.40, aluminum 0.04 to 0.08, hydrogen 0.001 maximum, nitrogen 0.03 maximum and oxygen .015 maximum; with the following other properties: non-metallic inclusion rating of ASTM E45 Method—A, Plate—1, A-2 maximum, B-2 maximum, C-2 maximum, D-2 maximum; microstructure: banding—#3 maximum, complete decarburization 0.012 mm maximum, total decarburization 0.05 mm maximum, carbide size #5 maximum, grain size minimum #8; pickled, ingot cast; hardness HRB 95 maximum;

(F) Products with chemical composition (percent by weight): carbon 0.45 to 0.50, manganese 0.60 to 0.90 percent, phosphorus 0.015 maximum, sulfur 0.007 maximum, silicon 0.10 to 0.25, chromium 0.90 to 1.10, molybdenum 0.90 to 1.10, calcium 0.001 maximum; copper 0.20 maximum, vanadium 0.08 to 0.15, nickel 0.50 to 0.70, aluminum 0.040 to 0.080, tin 0.020 maximum, antimony 0.020 maximum, hydrogen 0.001 maximum, nitrogen 0.015 maximum and oxygen 0.01 maximum; with the following other properties: non-metallic inclusion rating; ASTM E45 Method;—A plate—-1, (thin series only, no heavy series allowed) A-2 maximum, B-2 maximum, C-2 maximum, D-2 maximum; microstructure: banding—#3 maximum, complete decarburization 0.012 mm maximum, total decarburization 0.05 mm maximum, carbide size #5 maximum, grain size minimum #8; pickled, ingot cast; hardness HRB 95 maximum; or

(G) Products with chemical composition (percent by weight): carbon 0.31 to 0.35, manganese 0.60 to 0.80 percent, phosphorus 0.015 maximum, sulfur 0.005 maximum, silicon 0.25 to 0.45, chromium 0.90 to 1.10, molybdenum 1.85 to 2.15, calcium 0.001 maximum, niobium (columbium) 0.08 to 0.12, vanadium 0.40 to 0.50, nickel 0.90 to 1.10, aluminum 0.03 to 0.07, tin 0.020 maximum and antimony 0.010 maximum, with hydrogen 10 ppm maximum, nitrogen 150 ppm maximum and oxygen 100 ppm maximum; with the following other properties: non-metallic inclusion rating of ASTM E45 Method—A, Plate—1-r: Thin Series: A-2.0 maximum, B-2.0 maximum, C 2.0 maximum, D-2.0 maximum; Thick Series: A-0.0 B-0.5, C-0.5, D-0.0; microstructure: banding—#3 maximum, partial decarburization 1.5 percent of hot roll thickness maximum per side—no free ferrite is allowed, grain size minimum #7; pickled; ingot cast; hardness HRB 96 maximum;

(ix) Hot-rolled, flat-rolled steel, designated as X-213, if entered in an aggregate annual quantity not to exceed 4,800 t during the 12-month period beginning on July 12, 2002 or July 12, 2003 or during the period July 12, 2004 through March 20, 2005, inclusive, the foregoing with improved formability through inclusion shape control; yield strength 551 MPa minimum; tensile strength 621 MPa minimum; elongation in 50.8 mm of 18 percent minimum; with chemical composition (percent by weight): carbon 0.045 to 0.094, manganese 1.45 to 1.65, phosphorus 0.02 maximum, sulfur 0.01 maximum, silicon 0.15 to 0.25, aluminum 0.015 to 0.055, nitrogen 0.005 to 0.011, copper 0.04 maximum, nickel 0.04 maximum, chromium 0.04 maximum, tin 0.01 maximum, niobium (columbium) 0.057 to 0.073, vanadium 0.07 to 0.09, boron 0.0008 maximum and titanium 0.005 maximum; inclusion shape control through a calcium treatment, thickness 6.07 (minus 0, plus 0.406 mm) and width 1384.3 mm (minus 0, plus 25.4 mm);

(x) Three-layer clad plates with two hard outside layers and one soft center layer; with chemical composition (in percent by weight): (i) cladding/hard layer, grade known as ALTRIX 2003: carbon 0.70 to 0.80, silicon not over 0.40, manganese 0.60 to 0.80, phosphorus not over 0.03, sulfur not over 0.03 percent, chromium 0.20 to 0.35; and (ii) soft center layer: carbon not over 0.12, manganese 0.75 to 0.95, phosphorus not over 0.03, sulfur not over 0.03; total thickness of all three layers 6 to 9 mm; the foregoing designated as X-021;

(xi) Stainless steel products, if entered in an aggregate annual quantity not to exceed 63 t during the 12-month period beginning on July 12, 2002 or July 12, 2003 or during the period July 12, 2004 through March 20, 2005, inclusive, the foregoing cold finished, round, flat, square, hexagon and sections in straight lengths, containing by weight at least 17 percent chromium, 7 percent nickel and 2.3 percent molybdenum and conforming to specifications ASTM A276 and ASTM A479, the foregoing designated as X-004;

(xii) Stainless steel products, either round section bars with diameters from 12.7 to 508 mm or products with rectangular sections with thickness 11 or more but not over 356 mm and width 45 or more but not over 762 mm; modified AISI 420 with chemical composition (percent by weight): carbon 0.36 to 0.40, silicon 0.60 to 1.30, manganese 0.20 to 0.70, phosphorus not over 0.025, sulfur not over 0.0050, chromium 13.2 to 14.0, nickel not over 0.50, molybdenum not over 0.25, vanadium 0.15 to 0.40, titanium not over 0.012, niobium (columbium) and nitrogen not over 0.03, copper not over 0.15, aluminum 0.070 to 0.100, hydrogen not over 0.0003 and oxygen not over 0.0015; minimum cleanliness according to ASTM E45/87, Method A plate III Slag type A: T less than 1, H less than 0.5; Slag type B: T less than 1, H less than 0.5; Slag type C: T less than 1.5, H less than 1.0; or Slag type D: T less than 1; all the foregoing designated as X-196;

(xiii) AISI/SAE 201 stainless steel products, cold rolled, annealed, and tempered, in 250 kg spools, thickness 0.25 mm or more but not over 0.8 mm, width 2 mm or more but not over 5 mm; surface and edges to be clean, smooth, and free from cracks and any form of surface imperfections, all the foregoing designated as X-194;

(xiv) Stainless steel rods in cross-sectional diameters measuring less than 5.5 mm, designated as X-090 and meeting the following characteristics:

(A) AISI grade ER 307 Si products, with chemical composition (percent by weight): carbon 0.06 to 0.10, silicon 0.6 to 0.95, manganese 6.5 to 7.5, sulfur not over 0.015, phosphorus not over 0.020, nickel 8 to 9, chromium 18.5 to 19.5 and molybdenum not over 0.5;

(B) AISI grade ER 308 L products, with chemical composition (percent by weight): carbon not over 0.02, silicon 0.30 to 0.60, manganese 1.5 to 2.0, sulfur not over 0.015, phosphorus not over 0.020, nickel 9.5 to 10.5, chromium 19.5 to 20.5, molybdenum not over 0.2 and cobalt not over 0.15;

(C) AISI grade ER 308 L Si products, with chemical composition (percent by weight): carbon not over 0.02, silicon 0.65 to 0.95, manganese 1.5 to 2.0, sulfur not over 0.015, phosphorus not over 0.020, nickel 9.5 to 10.5, chromium 19.5 to 20.5, molybdenum not over 0.2 and cobalt not over 0.15;

(D) AISI grade ER 309 products, with chemical composition (percent by weight): carbon 0.06 to 0.10, silicon 0.30 to 0.60, manganese 1.5 to 2.0, sulfur not over 0.015, phosphorus not over 0.025, nickel 13 to 14, chromium 23.5 to 24.5, molybdenum not over 0.4 and cobalt not over 0.15;

(E) AISI grade ER 309 L products, with chemical composition (percent by weight): carbon not over 0.02, silicon 0.30 to 0.60, manganese 1.5 to 2.0, sulfur not over 0.015, phosphorus not over 0.025, nickel 13 to 14, chromium 23.0 to 24.5, molybdenum not over 0.4 and cobalt not over 0.15;

(F) AISI grade ER 309 L Mo products, with chemical composition (percent by weight): carbon not over 0.02, silicon 0.30 to 0.60, manganese 1.3 to 1.8, sulfur not over 0.015, phosphorus not over 0.025, nickel 14.5 to 15.5, chromium 21 to 22 and molybdenum 2.5 to 3.0;

(G) AISI grade ER 310 products, with chemical composition (percent by weight): carbon 0.10 to 0.15, silicon 0.30 to 0.60, manganese 1.5 to 2.0, sulfur not over 0.015, phosphorus not over 0.025, nickel 20.5 to 21.5 and chromium 25.5 to 26.5; or

(H) AISI grade ER 312 products, with chemical composition (percent by weight): carbon 0.09 to 0.12, silicon 0.20 to 0.50, manganese 1.5 to 2.0, sulfur not over 0.015, phosphorus not over 0.025, nickel 9 to 10, chromium 30 to 31 and molybdenum not over 0.2;

(xv) Flat-rolled products known in industry usage as electrolytic chromium-coated steel (also known as tin free steel), composed according to the following ASTM specifications: A623, A623M, A657 or A657M; with the following properties: actual width of 900.1 mm (minus 0 mm, plus 3.175 mm); plated or coated with chromium oxides or with chromium and chromium oxides; temper of modified DR 550; thickness of 0.215 mm, with gauge tolerance of minus 8 percent, plus 5 percent; continuously annealed; type L chemistry, oiled with dioctyl sebacate (DOS); the foregoing designated as X-160;

(xvi) Welded drawn-over-mandrel tubes, meeting the characteristics described below, imported for the production of specific automotive or agricultural vehicle and machinery components, the foregoing designated as X-162:

(A) Products measuring 20.00 to 35.00 mm outside diameter with an outside diameter tolerance of not over 0.10 mm; wall thickness of 3.00 mm or more but not over 5.00 mm with an allowable wall thickness variation of the greater of 3.0 percent of the thickness or 0.10 mm; with partial decarburization of not over 0.10 mm in depth; produced according to DIN 2393 C under St −34-3 , St 37-3, St 44-3 or St 52-3 with narrowed chemical analysis (aluminum killed only) of composition (percent by weight): carbon not over 0.24, manganese not over 1.60, silicon not over 0.55 and aluminum at least 0.02; the foregoing imported pursuant to a purchase order from an automotive assembled camshaft manufacturer in the United States;

(B) Products produced according to DIN 2393 C under St −34-3 , St 37-3, St 44-3 or St 52-3, with narrowed chemical analysis (aluminum killed only) of composition (percent by weight): carbon not over 0.24, manganese not over 1.60, silicon not over 0.55 and aluminum at least 0.02; and (i) for steering cylinders: measuring 35.00 mm or more but not over 60.00 mm in outside diameter, not over 3.50 mm in wall thickness, an inside diameter tolerance of not over 0.10 mm, and a wall thickness tolerance of 3.0 percent or 0.10 mm, whichever is greater, having partial decarburization of not over 0.10 mm in depth, an inner surface roughness (Rz) of not over 0.004 mm; or (ii) for steering columns: measuring 18.00 mm or more but not over 40.00 mm in outside diameter, 1.00 mm or more but not over 4.00 mm in wall thickness, with an outside diameter tolerance of not over 0.10 mm and a wall thickness tolerance of 3.0 percent or 0.10 mm, whichever is greater, having partial decarburization of not over 0.10 mm in depth; all the foregoing imported pursuant to a purchase order from an automotive steering system manufacturer in the United States;

(C) Products measuring 26.00 mm or more but not over 65.00 mm in outside diameter and 3.00 mm or more but not over 8.00 mm in wall thickness; having an outside diameter tolerance of not over 0.20 mm and having a wall thickness variation of not over 3.0 percent but at least 0.10 mm; having a partial decarburization of not over 0.05 mm in depth; produced according to microalloyed steels for cold upsetting: 19Mn5 mod., 26Mn5 mod., 34Mn5 mod. or 40Mn5 mod.; the foregoing imported pursuant to a purchase order from an automotive half shaft manufacturer in the United States for high quality tubes;

(D) Profiled tubes measuring 30.00 mm or more but not over 100.00 mm outside diameter and 2.40 mm or more but not over 6.00 mm wall thickness and having dimensional tolerances such that a tube pair is telescopic over 2 meters of length, having a partial decarburization not over 0.10 mm in depth, produced according to DIN 2393 C under St −34-3 , St 37-3, St 44-3 or St 52-3 with narrowed chemical analysis (aluminum killed only) of composition (percent by weight): carbon not over 0.24, manganese not over 1.60, silicon not over 0.55 and aluminum at least 0.02; the foregoing imported pursuant to a purchase order from a power takeoff shaft manufacturer in the United States; or

(E) Measuring 17.00 mm or more but not over 40.00 mm in outside diameter with a tolerance of 0.20 mm, wall thickness of 2.30 mm or more but not over 6.00 mm with a wall thickness tolerance of 3.0 percent or 0.10 mm, whichever is greater; partial decarburization not over 0.05 mm in depth, produced as microalloyed steels for cold upsetting: 19Mn5 mod., 26Mn5 mod., 34Mn5 mod. or 40Mn5 mod.; imported pursuant to a purchase order from an automotive stabilizer bar manufacturer in the United States; or

(xvii) Welded drawn-over-mandrel profiled tubes, designated as X-162, the foregoing measuring 6 to 7 m in length, 34.50 mm or more but not over 64.50 mm in outside diameter and 2.50 mm or more but not over 5.50 mm in wall thickness; having dimensional tolerances so that a tube pair is telescopic over 2 m length; produced according to DIN 2393 C under St 52-3 with narrowed chemical analysis (aluminum killed only) of composition (percent by weight): carbon not over 0.24, manganese not over 1.60, silicon not over 0.55 and aluminum of 0.02 or more; the foregoing imported pursuant to a purchase order from a power takeoff shaft manufacturer in the United States.

(xviii) Hot-rolled flat-rolled products, designated as X-021 and meeting the characteristics described below:

(A) Products entered in an aggregate annual quantity not to exceed 1,953 t during the 12-month period beginning on July 12, 2002 or July 12, 2003 or during the period July 12, 2004 through March 20, 2005, inclusive, the foregoing with chemical composition (percent by weight): carbon 0.05 to 0.10, silicon 0.20 to 0.50, manganese 1.60 to 2.00, phosphorus not over 0.020, sulphur not over 0.008, aluminum 0.020 to 0.080, nickel 0.30 to 0.65, molybdenum 0.20 to 0.50, copper 0.20 to 0.40, vanadium 0.040 to 0.100, niobium (columbium) 0.020 to 0.060 and titanium 0.010 to 0.050; carbon equivalent value (CEV) (C + MN/6 (Cr + Mo + V)/5 + (Ni+ Cu)/15) of 0.48 to 0.56, carbon equivalent tekken (CET) (C + (Mn + Mo)/10 + (Cr + Cu)/20 + Ni/40) of 0.29 to 0.035; thickness of 8 mm to 25 mm; width of 1,828.8 mm to 2,500 mm for thickness range 8 mm to 15 mm or of 1,828.8 mm to 3,000 mm for thickness range from 15 to 25 mm; minimum yield strength (ReH) 700 N/mm², tensile strength (Rm) 750 to 950 N/mm², fracture elongation minimum A5 of 12 percent; notch impact energy at −40 °C on Charpy/V samples in longitudinal direction, minimum average value of 40 joule; and bendability of 2 times thickness for 180 degree bend both transverse and longitudinal orientation;

(B) Products entered in an aggregate annual quantity not to exceed 1,000 t during the 12-month period beginning on July 12, 2002 or July 12, 2003 or during the period July 12, 2004 through March 20, 2005, inclusive, the foregoing with chemical composition (percent by weight): carbon 0.10 to 0.15, silicon 0.20 to 0.50, manganese 0.80 to 1.60, phosphorus not over 0.020, sulphur not over 0.008, aluminum 0.020 to 0.080, nickel 1.00 to 2.00, molybdenum 0.20 to 0.50, copper 0.30 to 0.50, vanadium 0.030 to 0.100, niobium (columbium) not over 0.050 and titanium 0.010 to 0.050; carbon equivalent value (CEV) (C + MN/6 (Cr + Mo + V)/5 + (Ni + Cu)/15) of 0.62 to 0.69, carbon equivalent tekken (CET) (C + (Mn + Mo)/10 + (Cr + Cu)/20 + Ni/40) of 0.34 to 0.38; thickness 8 mm to 25 mm; width 1,828.8 mm to 2,500 mm; minimum yield strength (ReH) 900 N/mm²; tensile strength (Rm) 940 to 1,100 N/mm²; fracture elongation minimum A5 of 11 percent; notch impact energy at −40 °C on Charpy/V samples in longitudinal direction; minimum average value of 40 joule; and bendability of 2 times thickness for 180 degree bend both transverse and longitudinal orientation; or

(C) Products entered in an aggregate annual quantity not to exceed 1,000 t during the 12-month period beginning on July 12, 2002 or July 12, 2003 or during the period July 12, 2004 through March 20, 2005, inclusive, the foregoing with chemical composition (percent by weight): carbon 0.10 to 0.15, silicon 0.20 to 0.50, manganese 0.80 to 1.60, phosphorus not over 0.020, sulphur not over 0.008, aluminum 0.020 to 0.080, nickel 1.00 to 2.00, molybdenum 0.20 to 0.50, copper 0.30 to 0.50, vanadium 0.030 to 0.100, niobium (columbium) not over 0.050 and titanium 0.010 to 0.050; carbon equivalent value (CEV) (C + MN/6 (Cr + Mo + V)/5 + (Ni+ Cu)/15) of 0.62 to 0.69, carbon equivalent tekken (CET) (C + (Mn + Mo)/10 + (Cr + Cu)/20 + Ni/40) of 0.34 to 0.38; thickness 8 mm to 25mm; width 1,828.8 mm to 2,500 mm; minimum yield strength (ReH) 960 N/mm²; tensile strength (Rm) 980 to 1150 N/mm²; fracture elongation minimum A5 of 10 percent; notch impact energy at −40 °C on Charpy/V samples in longitudinal direction; minimum average value of 27 joule; and bendability of 2 times thickness for 180 degree bend both transverse and longitudinal orientation;

(xix) Hot-rolled flat-rolled products, designated as X-032 or X-083 and entered in an aggregate annual quantity not to exceed 3,850 t during the 12-month period beginning on July 12, 2002 or July 12, 2003 or during the period July 12, 2004 through March 20, 2005, inclusive, the foregoing known in industry usage as “13 percent manganese austenitic” plate; with the following characteristics: non-magnetic; flatness certified to meet ASTM-A6 specification; thickness 4.76 mm to 120.65 mm; width not exceeding 3,048 mm; length not exceeding 8,636 mm; hardness of 180 to 260 BHN; fully austenitic microstructure; in the as-rolled or quench-annealed condition; with chemical composition (percent by weight): carbon 0.80 to 1.20, manganese 12.00 to 14.00, sulfur not over 0.040, phosphorus not over 0.035 and silicon not over 0.50, with or without other elements;

(xx) Hot-rolled flat-rolled designated as X-142, with the following characteristics:

(A) Products known in industry usage as “abrasion resistant steel'; thickness 6.0 mm to 65.0 mm; minimum hardness 401 BHN; with chemical composition (percent by weight): titanium 0.35 to 0.45, carbon 0.29 to 0.31, silicon 0.30 to 0.40, manganese 0.65 to 0.75, phosphorus none to not over 0.010, sulfur not over 0.010, chromium 0.80 to 0.90, molybdenum 0.22 to 0.27; boron 0.0008 to 0.0014, soluble aluminum 0.03 to 0.06 and nitrogen 0.002 to 0.006; descaled; flatness tolerance half of that shown in ASTM A6;

(B) Thermo-mechanically controlled-rolled products having the following characteristics: TMCP (thermo mechanical control process) with a thickness of 4.5 mm to 76.2 mm; yield strength 552 to 690 MPa; minimum tensile strength 621 MPa; Welded Crack Tip Opening Test (CTOD) value at −10 °C: minimum 0.25 mm; with chemical composition (percent by weight): carbon not over 0.12, silicon not over 0.40, manganese not over 2.00, phosphorus not over 0.015, sulfur not over 0.006, niobium (columbium) not over 0.030 and titanium not over 0.020; Pcm no more than 0.23 (Pcm = C + Mn/20 + Si/30 + Cu/20 + Ni/60 + Cr/20 + Mo/15 + V/5 + 5B);

(C) Products entered in an aggregate annual quantity not to exceed 439 t during the 12-month period beginning on July 12, 2002 or July 12, 2003 or during the period July 12, 2004 through March 20, 2005, inclusive, the foregoing having a width greater than 915 mm, meeting SAE 4135 specification with the following ladle analysis (percent by weight): carbon 0.33 to 0.38, manganese 0.60 to 0.90, silicon 0.15 to 0.30, phosphorus not over 0.030, sulfur not over 0.030, chromium 0.90 to 1.25 and molybdenum 0.15 to 0.25;

(D) Products entered in an aggregate annual quantity not to exceed 432 t during the 12-month period beginning on July 12, 2002 or July 12, 2003 or during the period July 12, 2004 through March 20, 2005, inclusive, the foregoing having a width greater than 915 mm, meeting the following specification (modified SAE 8670) for chemical composition (percent by weight): carbon 0.67 to 0.75, manganese 0.40 to 0.60, silicon 0.20 to 0.35, phosphorus not over 0.035, sulfur not over 0.035, chromium 0.20 to 0.50, nickel 0.70 to 1.00 and molybdenum 0.11 to 0.15; or

(E) Products entered in an aggregate annual quantity not to exceed 6500 t during the 12-month period beginning on July 12, 2002 or July 12, 2003 or during the period July 12, 2004 through March 20, 2005, inclusive, the foregoing known in industry usage as “thermo-mechanically controlled-rolled plate”; having the following characteristics: TMCP (thermo mechanical control process): high strength tensile alloy plate; with thickness of 6.0 mm to 40.0 mm; minimum yield strength 685 N/mm²; tensile strength 780 to 890 N/mm²; with chemical composition (percent by weight): titanium 0.008 to 0.017, carbon 0.14 to 0.15, silicon 0.3 to 0.4, manganese 1.14 to 1.40, phosphorus not over 0.02, sulfur not over 0.004, chromium 0.05 to 0.18, molybdenum 0.11 to 0.32, niobium (columbium) 0.017 to 0.023, vanadium not over 0.050, boron 0.0008 to 0.0015, soluble aluminum 0.015 to 0.035 and nitrogen not over 0.004; bendability of one-half times thickness for 180 degree bend; permissible variations from flatness one-fourth of that shown for ASTM A6; Charpy impact at −40 °C, minimum of 40J; carbon equivalent: not over 0.40 percent for products not over 19 mm in thickness, or not over 0.43 percent for products over 19 mm but not over 40 mm in thickness (carbon equivalent = C + MN/6 + (CU + NI)/15 + (CR + MO + V)/5);

(xxi) Cold drawn steel bars, designated as N-319, the foregoing if in standard metric sizes and of round or hexagonal cross section then having a diameter of 5 mm to 70 mm, if of square cross section then measuring 25 mm to 100 mm, or if of rectangular cross section having the smaller side measuring 16 mm to 100 mm and the larger side measuring 25 mm to 250 mm; with chemical composition (percent by weight): carbon 0.18 maximum, manganese 0.90 maximum; phosphorus 0.50 maximum, sulfur 0.050 maximum and remainder iron;

(xxii) Bars of hexagonal cross section, not further worked than cold drawn, measuring 57.15 mm or more but not over 101.6 mm in cross section according to ASTM A29/A108 in freecutting, medium carbon grades; the foregoing designated as N-321;

(xxiii) Bars of nonalloy steel, of round cross section, not further worked than cold formed or cold finished, the foregoing designated as N-377 and meeting the characteristics described below:

(A) Products plated with an inner layer of nickel and an outer layer of hard chrome; having a nickel-layer thickness exceeding 40 micrometers and a chromium layer thickness exceeding 20 micrometers; polished; with the following properties: diameter tolerance of ISO h8 or better, straightness 0.1 mm per meter or better, surface roughness (ra) 0.2 micrometers or better and certified as capable of exposure for 1000 hours in ASTM B117 salt-spray test without corrosive attack; or

(B) Either noninduction hardened or induction hardened products; hard-chrome plated with a chrome layer thickness exceeding 25 micrometers; polished; with the following properties: diameter tolerance ISO h8 or better, straightness 0.1 mm per meter or better, surface roughness (ra) 0.2 micrometers or better and capability of exposure for 96 hours in ASTM B117 salt-spray test without corrosion;

(xxiv) Bars not further worked than cold formed or cold finished, designated as N-454 and meeting the characteristics described below:

(A) Forged and fully heat treated die steel, known in industry usage as “Hydie” with a chemical composition (percent by weight): carbon 0.45 maximum, silicon 0.50 maximum, manganese 0.80 maximum, chromium 3.50 maximum, molybdenum 1.20 maximum and vanadium 0.30 maximum with or without other minor alloying element; thickness not over 500 mm; in round or rectangular cross-section; supplied heat treated to a maximum hardness of 477 brinell;

(B) Spheroidised annealed or spheroidised annealed and fully heat treated forged die steel, known in industry usage as “VMC” the foregoing suitable for use in die inserts, extrusion tools, plastic molds, die casting inserts and cores; with a chemical composition (percent by weight): carbon 0.45 maximum, silicon 1.20 maximum, manganese 0.40, chromium 5.40, molybdenum 1.70 and vanadium 1.10 maximum, with or without other minor alloying elements; with thickness not over 500 mm, in round or rectangular cross-section; supplied heat treated to a maximum hardness of 514 brinell;

(C) Forged and fully heat treated die steel, known in industry usage as “Somdie” with chemical composition (percent by weight): carbon 0.60 maximum, silicon 0.40 maximum, manganese 1.00 maximum, nickel 1.90 percent maximum, chromium 1.30 maximum, molybdenum 0.65, with or without other minor alloying elements; thickness not over 900 mm; in round or rectangular cross-section; supplied heat treated to a maximum hardness of 477 brinell;

(D) Forged and fully heat treated die steel, known in industry usage as “Bestem” with chemical composition (percent by weight): carbon 0.30 maximum, silicon 0.35 maximum, manganese 0.75 maximum, nickel 3.20 maximum, chromium 1.00 maximum and molybdenum 3.50 percent, with or without other minor alloying elements; thickness not over 500 mm; in round or rectangular cross-section; supplied heat treated to a maximum hardness of 477 brinell;

(E) Forged and fully heat treated die steel, known in industry usage as “Thermodie” with chemical composition (percent by weight): carbon 0.60 maximum, silicon 0.70 maximum, manganese 0.70 maximum, nickel 2.40 maximum, chromium 1.10 maximum and molybdenum 0.80, with or without other minor alloying elements; thickness not over 750 mm, in round or rectangular cross-section; supplied heat treated to a maximum hardness of 477 brinell; or

(F) Forged and fully heat treated die steel, known in industry usage as “No. 5 Electem“ with chemical composition (percent by weight): carbon 0.60 maximum, silicon 0.35 maximum, manganese 1.00 maximum, nickel 1.50 maximum, chromium 1.10 maximum and molybdenum 0.40; with or without other minor alloying elements; thickness not over 900 mm; in round or rectangular cross-section; supplied heat treated to a maximum hardness of 429 brinell;

(xxv) Cold-finished carbon steel bars, known in industry usage as “JIS S48CL”, the foregoing with diameter of 24.3 mm (with tolerance of ± 0.05 mm); cut-to-length; with minimum tensile strength of 735N/mm², minimum yield strength of 539N/mm² and minimum elongation of 15 percent; with chemical composition (percent by weight): carbon 0.45 to 0.51, silicon 0.15 to 0.35, manganese 0.75 to 0.90, phosphorus 0.030 maximum, sulfur 0.015 to 0.040, copper 0.30 maximum, nickel 0.20 maximum, chromium 0.20 maximum, nickel plus chromium 0.35 maximum and lead 0.10 to 0.30; the foregoing designated as X-011;

(xxvi) Bright or blue finish band saw steel, designated as N-313, cold-rolled, meeting the following characteristics: thickness not over 1.31 mm, width not over 80 mm; with chemical composition (percent by weight): carbon 1.2 to 1.3, silicon 0.15 to 0.35, manganese 0.20 to 0.40, phosphorus not over 0.03, sulphur not over 0.015, chromium 0.15 to 0.25 and nickel not over 0.25; with the following other properties: carbides fully spheroidized, having greater than 80 percent of carbides, which are not over 0.003 mm and uniformly dispersed; surface finish blue or bright free from pits, scratches, rust, cracks, or seams; smooth edges; edge camber (in each 300 mm of length) of not over 7 mm arc height; and cross bow of 0.025 mm maximum per 25.4 mm of width;

(xxvii) Cold-rolled flat-rolled wood bandsaw steel in grade UHB 15 N 20; the foregoing with thickness greater than 1.1 mm; width range 6.3 to 412.8 mm; with chemical composition (percent by weight): carbon 0.70 to 0.80, silicon 0.20 to 0.35, manganese 0.30 to 0.45, phosphorus 0.020, sulfur 0.016, nickel 1.90 to 2.10; microstructure fine needled, tempered martensite with a uniform distribution of few (maximum 1 percent by volume) undissolved carbides; inclusions: to DIN 50602: K1 oxide less than 10; maximum OG: 8.2; decarburization: free ferrite not allowed; maximum partial decarburization 4 percent of product thickness; tensile strength/hardness 1450 + 80 N/mm² (42 to 46 HRC); product thickness of not over 2.0 mm 1370 + 80 N/mm² (40 to 43 HRC); surface appearance bright polished/ground surface; maximum approved scratch depth for longitudinal and transversal scratches 10 μ edges: square fine machine smooth edges; flatness: maximum unflatness of 0.10 percent of the nominal product width; maximum coil set: 10 mm/m; straightness: product width of not over 40 mm with a maximum deviation of 0.35 mm per 0.9 m; product width of not over 134 mm with a maximum deviation of 0.25 mm per 0.0 or 0.8 per 3 m; thickness tolerance; T1: within g a product maximum half the tolerance zone for T1; width tolerance B1; the foregoing designated as N-387;

(xxviii) Cold-rolled flat-rolled semi-processed silicon electrical steel, designated as X-077 and meeting the characteristics described below:

(A) Products entered in an aggregate annual quantity not to exceed 6,395 t during the 12-month period beginning on July 12, 2002 or July 12, 2003 or during the period July 12, 2004 through March 20, 2005, inclusive, the foregoing meeting ASTM A726 specifications and having the following characteristics: thickness of 0.47 mm ±0.002 mm and width of 1057.28 mm +10 mm/−0; with chemical composition (percent by weight): carbon 0.003, silicon 0.57, manganese 0.43, phosphorus 0.03, sulfur 0.005 and aluminum 0.35; density 7.80 (g/cm3); mechanical properties: hardness of Hv 71; yield strength of 397 MPa or more (longitudinal); tensile strength of 450 MPa or more (longitudinal); elongation of 18 percent (longitudinal); lamination factor of 96.0 percent; coating: dull finish anti-stick coating similar to C4A, supplier's proprietary D coating; magnetic properties: core loss (1.5T/60 Hz) of 4.01 watts/kg typical, 4.41 maximum; permeability (1.5T/60 Hz) of 3630 typical, 2000 minimum; and annealed at 788 °C for one hour in a decarburizing atmosphere;

(B) Products entered in an aggregate annual quantity not to exceed 1,599 t during the 12-month period beginning on July 12, 2002 or July 12, 2003 or during the period July 12, 2004 through March 20, 2005, inclusive, the foregoing meeting ASTM A726 specifications and having the following characteristics: thickness of 0.47 mm ± 0.002 mm and width of 1057.28 mm +10 mm/−0; with chemical composition (percent by weight): carbon 0.002, silicon 0.55, manganese 0.85, phosphorus 0.05, sulfur 0.005 and aluminum 0.25; density 7.80 (g/cm3); mechanical properties: hardness of Hv 130; yield strength of 421 MPa or more (longitudinal); tensile strength of 460 MPa or more (longitudinal); elongation of 21 percent (longitudinal); lamination factor of 97.0 percent; coating: dull finish anti-stick coating similar to C4A, supplier's proprietary D coating; magnetic properties: core loss (1.5T/60 Hz) of 3.64 watts/kg typical, 4.08 maximum; permeability (1.5T/60 Hz) of 3000 typical, 2000 minimum; and annealed at 788°C for one hour in a dry N2 atmosphere; or

(C) Flat-rolled, cold-rolled, silicon bearing, non-oriented electrical steel, entered in an aggregate annual quantity not to exceed 1,550 t during the 12-month period beginning on July 12, 2002 or July 12, 2003 or during the period July 12, 2004 through March 20, 2005, inclusive; the foregoing with thickness of 0.50 mm; maximum core loss of 3.70 watts per kg at 60 Hz and 1.5 tesla, when tested on a 25-cm Epstein frame according to the method of IEC 60404-2, where half of the sample products are taken in the longitudinal direction and half in the transverse direction; with carbon not over 0.005 percent by weight; with an inorganic surface insulation (known in industry usage as “Suralac 7000”) with a smooth finish that provides a minimum of 12.9 ohms-cm² @ 2.07 MPa tested per ASTM A717/A717M on a Franklin tester; capable of withstanding stress-relieving temperatures without impairing surface insulation, and with an intermittent temperature capability of 850 °C in inert gas as well as a continuous temperature capability of 230 °C in air; industry grade M15;

(xxix) Cold-rolled flat-rolled steel, designated as X-083 and meeting the characteristics described below:

(A) Products entered in an aggregate annual quantity not to exceed 850 t during the 12-month period beginning on July 12, 2002 or July 12, 2003 or during the period July 12, 2004 through March 20, 2005, inclusive, the foregoing single reduced, 90 base box weight, T-1 BA, Type MR, 5C matte finish; with thickness of 0.231 mm to 0264 mm and width from 1079.50 mm to 1089.03 mm; produced to ASTM A623-00 and A624-98; certified that such products will each be slit into two coils of equal widths, each coil having a minimum width of 533.4 mm, for use in manufacturing radiator fins; or

(B) Products entered in an aggregate annual quantity not to exceed 250 t during the 12-month period beginning on July 12, 2002 or July 12, 2003 or during the period July 12, 2004 through March 20, 2005, inclusive, the foregoing single reduced, 112 base weight, T-2 BA, Type MR, 5C matte finish; with thickness of 0.290 mm to 0.328 mm and width of 1066.80 mm; produced to ASTM A623-00 and A624-98; certified that it will be slit into two coils of equal widths, each coil having a minimum width of 520.7 mm and for use in manufacturing engine gaskets;

(xxx) Cold-rolled flat-rolled steel products, designated as X-142 and meeting the characteristics described below:

(A) Products entered in an aggregate annual quantity not to exceed 5,534 t during the 12-month period beginning on July 12, 2002 or July 12, 2003 or during the period July 12, 2004 through March 20, 2005, inclusive, the foregoing in coils, meeting SAE 1050, spheroidized annealed, light matte finish; with thickness of 0.254 mm to 2.324 mm and width of 914 mm to 1,321 mm; slit edge, no weld; Coil I/D 508 mm; Coil O/D 1,524 mm maximum; thickness tolerance (at center of product): ±0.006 mm for thickness from 0.254 mm to 0.381 mm; ±0.007 mm for thickness from 0.381 mm to 0.635 mm; ±0.010 mm for thickness from 0.635 mm to 2.324 mm; rating 1.0 maximum by ASTM E45, method-A; and restricted carbon range of 0.02 points;

(B) Products entered in an aggregate annual quantity not to exceed 100 t during the 12-month period beginning on July 12, 2002 or July 12, 2003 or during the period July 12, 2004 through March 20, 2005, inclusive, the foregoing in coils, SAE 1074, spheroidized annealed, light matte finish; thickness of 0.254 mm to 2.324 mm and width of 914 mm to 1,321 mm, slit edge, no weld; Coil I/D: 508 mm; Coil O/D: 1,524 mm maximum; thickness tolerance (center of sheets): ±0.006 mm for thickness from 0.254 mm to 0.381 mm; ±0.007 mm for thickness 0.381 mm or more but not over 0.635 mm; ±0.010 mm for thickness 0.635 mm or more but not over 2.324 mm; rating 1.0 Max by ASTM E45, method-A; and restricted carbon range of 0.02 points;

(C) Products with thickness from 0.8 mm to 1.0 mm; tensile strength 980 to 1080 N/mm²; yield strength 700 to 850 N/mm²; elongation 11 to 20 percent; minimum stretch flangeability 30 percent; with chemical composition (percent by weight): carbon maximum 0.19, silicon maximum 1.60, manganese maximum 2.20, phosphorus maximum 0.02 and, sulfur maximum 0.010;

(D) Products with thickness from 1.0 mm to 1.2 mm; tensile strength 980 to1080 N/mm²; yield strength 690 to 850 N/mm²; elongation 12 to 21 percent; minimum stretch flangeability 30 percent; with chemical composition (percent by weight): carbon maximum 0.19, silicon maximum 1.60, manganese maximum 2.20, phosphorus maximum 0.020 and sulfur maximum 0.010;

(E) Products with thickness from 1.2 mm to 1.6 mm; tensile strength 980 to1,080 N/mm²; yield strength 690 to 850 N/mm²; elongation 13 to 22 percent; minimum stretch flangeability 30 percent; with chemical composition (percent by weight): carbon maximum 0.19, silicon maximum 1.60, manganese maximum 2.20, phosphorus maximum 0.020 and sulfur maximum 0.010;

(F) Products with thickness from 1.6 mm to 2.3 mm; tensile strength 980 to 1,080 N/mm²; yield strength 690 to 850 N/mm²; minimum elongation 13 percent; minimum stretch flangeability 30 percent; with chemical composition (percent by weight): carbon maximum 0.19, silicon maximum 1.60, manganese maximum 2.20, phosphorus maximum 0.020 and sulfur maximum 0.010;

(G) Products with thickness from 0.8 mm to 1.0 mm; tensile strength 980 to 1,060 N/mm² yield strength 590 to 730 N/mm² elongation 13 to 20 percent; with chemical composition (percent by weight): carbon maximum 0.19, silicon maximum 1.60, manganese maximum 2.20; phosphorus maximum 0.020 and sulfur maximum 0.010;

(H) Products with thickness 1.0 mm to 1.2 mm; tensile strength 980 to1060 N/mm²; yield strength 580 to 730 N elongation 14 to 21 percent; with chemical composition (percent by weight): carbon maximum 0.19, silicon maximum 1.60, manganese maximum 2.20, phosphorus maximum 0.020 and sulfur maximum 0.010;

(I) Products with thickness 1.2 mm or more but not over 1.6 mm; tensile strength 980 to1060 N yield strength 580 to 730 N elongation 14 to 22 percent; with chemical composition (percent by weight): carbon maximum 0.19, silicon maximum 1.60, manganese maximum 2.20, phosphorus maximum 0.020 and sulfur maximum 0.010; or

(J) Products with thickness 1.6 mm to 2.3 mm; tensile strength 980 to1060 N yield strength 580 to 730 N minimum elongation 14 percent; with chemical composition (percent by weight): carbon maximum 0.19, silicon maximum 1.60, manganese maximum 2.20, phosphorus maximum 0.020 and sulfur maximum 0.010;

(xxxi) Cold-rolled flat-rolled products, designated as X-143 and meeting the characteristics described below:

(A) Single-reduced black plate, entered in an aggregate annual quantity not to exceed 2,467.6 t during the 12-month period beginning on July 12, 2002 or July 12, 2003 or during the period July 12, 2004 through March 20, 2005, inclusive, and meeting the specification ASTM-A625, having either a minimum thickness of 0.34 mm and a coil width of 125.73 cm, or a thickness of 0.29 mm or more but not over 0.36 mm and a coil width of 67.31 cm to 101.60 cm; the foregoing satisfying the following characteristics: a maximum hardness on the Rockwell B scale of R B-47, with no lap welds and a dry surface roughness of Ra 1.25 to 2.25 microns; with chemical composition (percent by weight): carbon 0.045 maximum, chromium 0.05 maximum and aluminum 0.07 maximum; and certified for use for the manufacture of cookware; or

(B) Cold-rolled drawing quality steel, entered in an aggregate annual quantity not to exceed 1,161.2 t during the 12-month period beginning on July 12, 2002 or July 12, 2003 or during the period July 12, 2004 through March 20, 2005, inclusive, and meeting the specification ASTM-A619, with a thickness of 0.360 mm or more; the foregoing satisfying the following characteristics: a maximum weight of 5,625 kg per coil (except as provided below), a maximum hardness on the Rockwell B scale of R B-47, with no lap welds and a dry surface roughness of Ra 1.25 to 2.25 microns; with chemical composition (percent by weight): carbon 0.045 maximum, chromium 0.05 maximum and aluminum 0.07 maximum; in the following thickness and coil width combinations respectively: 0.40 mm × 102.24 cm, 0.44 mm × 116.21 cm, 0.45 mm × 120.97 cm; 0.36 mm × 101.92 cm, 0.36 mm × 104.46 cm, 0.36 mm × 90.49 cm, 0.40 mm × 77.79 cm, 0.44 mm × 63.50 cm, 0.44 m × 82.87 cm, 0.39 mm × 93.03 cm, 0.45 mm × 104.46 cm, 0.38 mm × 91.76 (the latter having a maximum weight of 3,600 kg per coil) or 0.42 mm × 91.76 cm (the latter having a maximum weight 3,600 kg per coil); and certified for use in the manufacture of cookware;

(xxxii) Aluminized coated hardenable manganese-boron steel, designated as N-316 and known in industry usage as “USIBOR”; having the following properties: in coils 624 mm to 1600 mm wide; 0.6 mm to 3.0 mm in thickness; having ASTM 463-A coating; with chemical composition (percent by weight): carbon not over 0.25, manganese not over 1.35, sulfur not over 0.008, aluminum not over 0.06, silicon not over 0.35, chromium not over 0.30, nitrogen not over 0.009, boron not over 0.004 and titanium not over 0.05; yield strength of 360 to 480 MPa; tensile strength of 540 to 660 MPa; and elongation of 21 percent;

(xxxiii) Corrosion resistant continuously annealed flat-rolled products, designated as N-426, continuous cast, the foregoing with chemical composition (percent by weight): carbon not over 0.06 percent by weight, manganese 0.20 or more but not over 0.40, phosphorus not over 0.02, sulfur not over 0.023, silicon not over 0.03, aluminum 0.03 or more but not over 0.08, arsenic not over 0.02, copper not over 0.08 and nitrogen 0.003 or more but not over 0.008; and meeting the characteristics described below:

(A) Products with one side coated with a nickel-iron-diffused layer which is less than 1 micrometer in thickness and the other side coated with a two-layer coating composed of a base nickel-iron-diffused coating layer and a surface coating layer of annealed and softened pure nickel, with total coating thickness for both layers of more than 2 micrometers; surface roughness (RA-microns) 0.18 or less; with scanning electron microscope (SEM) not revealing oxides greater than 1;

(B) Products having one side coated with a nickel-iron-diffused layer which is less than 1 micrometer in thickness and the other side coated with a four-layer coating composed of a base nickel-iron-diffused coating layer, with an inner middle coating layer of annealed and softened pure nickel, an outer middle surface coating layer of hard nickel and a topmost nickel-phosphorus-plated layer; with combined coating thickness for the four layers of more than 2 micrometers; surface roughness (RA-microns) 0.18 or less; with SEM not revealing oxides greater than 1 micron; and inclusion groups or clusters not exceeding 5;

(C) Products having one side coated with a nickel-iron-diffused layer which is less than 1micrometer in thickness and the other side coated with a three-layer coating composed of a base nickel-iron-diffused coating layer, with a middle coating layer of annealed and softened pure nickel and a surface coating layer of hard, luster-agent-added nickel which is not heat-treated; with combined coating thickness for all three layers of more than 2 micrometers; surface roughness (RA-microns) 0.18 or less; with SEM not revealing oxides greater than 1 micron; and inclusion groups or clusters exceeding 5 microns in length; or

(D) Products having one side coated with a nickel-iron-diffused layer which is less than 1 micrometer in thickness and the other side coated with a three-layer coating composed of a base nickel-iron-diffused coating layer, with a middle coating layer of annealed and softened pure nickel and a surface coating layer of hard, pure nickel which is not heat-treated; with combined coating thickness for all three layers of more than 2 micrometers; surface roughness (RA-microns) 0.18 or less; SEM not revealing oxides greater than 1 micron; and inclusion groups or clusters shall not exceed 5 microns in length;

(xxxiv) Electrogalvanized flat-rolled products, designated as N-455 and meeting the characteristics described below:

(A) Products with chemical composition (percent by weight): carbon not over 0.010, manganese not over 0.6, phosphorus not over 0.16, sulfur not over 0.03, silicon 2.0 to 3.0 and iron the remainder; with a thickness of 1.0 to 1.6 mm, thickness tolerance ±0.09 mm, tensile strength 50.0 to 64.2 kgf/mm²; yield point 38.2 to 45.9 kg/mm²; permeability 450 to 1000 (at the magnetic force of 0.30 Oe, according to JIS C 2550), with zinc or zinc-nickel electroplating weight of 20 g/m²; (minimum 17 g/m², maximum 26 g/m²); approximate thickness 3 mm;

(B) Products, whether or not with a chromate-free coating, with a zinc-nickel alloy electroplating, coating weights of zinc-nickel 17 g/m² minimum; thickness tolerance ±5 percent; tensile strength of 49 to 56 kgf/m m², yield point of 38 to 45 kgf /mm², magnetic properties 700 u or greater; with chemical composition (percent by weight): carbon 0.07 maximum, silicon 3.5 maximum, manganese 2.0 maximum, phosphorus 0.15 maximum and sulfur 0.02 maximum; or

(C) Products, whether or not with chromate or a chromate-free coating, whether or not with heat-resistant coating, with the following specifications: tensile strength 40 to 65 kgf/mm² yield point 25 to 46 kgf/mm² permeability 450 or greater (measured at the magnetic force of 0.30 Oe under direct-current mode; according to JIS C2550); zinc-nickel alloy electroplating; coating weights of zinc-nickel 17 to 24 g/m², if applicable chromate coating 40 to 70 mg/m², if applicable chromate-free coating 90 to 160 mg/m², and if applicable heat-resistance coating 0.3 to 1.2 g/m²; thickness 1.0 to 1.6 mm, thickness tolerance ±5 percent; width tolerance minus 0, plus 7 mm; warp 5 mm maximum and camber 2 mm/2,000 mm maximum; with chemical composition (percent by weight): carbon 0.010 maximum, silicon 3.0 maximum, manganese 2.0 maximum, phosphorus 0.16 maximum and sulfur 0.03 maximum;

(xxxv) High strength electrolytic zinc-coated silicon steel flat-rolled products, designated as N-456 and meeting the characteristics described below:

(A) Products whether or not with a chromate or chromate-free coating, with the following specifications: thickness 1.0 to 1.6 mm, thickness tolerance ±5 percent; width tolerance minus 0, plus 7 mm; tensile strength 41 to 45 kgf/mm²; yield point 26 to 30 kgf/mm²; magnetic properties of permeability 800 or more; with zinc-nickel alloy electroplating, coating weights of zinc-nickel 17 to 24 g/m² minimum, and if applicable chromate-free coating of 90 to 160 mg/m²; heat resistant chemical treatment of 0.3 to 1.0 g/m²; maximum deviation from horizontal flat surface of 5 mm, with the camber of mother coils not larger than 2 mm/2000 mm in length; with chemical composition (percent by weight): carbon 0.01 maximum, silicon 1.0 to 2.0, manganese 0.5 to 1.5, phosphorus 0.16 maximum and sulfur 0.03 maximum; or

(B) Products whether or not with a chromate or chromate-free coating, with the following specifications: thickness 1.0 to 1.6 mm, thickness tolerance ±5 percent; width tolerance minus 0, plus 7 mm; tensile strength 45 to 49 kgf/mm²; yield point 32 to 36 kgf/mm²; magnetic properties of permeability 500 or more; zinc-nickel alloy electroplating; with coating weights of zinc-nickel 17 to 24 g/m² minimum, and if applicable chromate-free coating 90 to 160 mg/m²; heat resistant chemical treatment of 0.3 to 1.0 g/m²; maximum deviation from horizontal flat surface of 5 mm, with the camber of mother coils not larger than 2 mm/2000 mm in length; with chemical composition (percent by weight): carbon 0.01 maximum, silicon 1.0 to 2.0, manganese 0.5 to 1.5, phosphorus 0.16 maximum and sulfur 0.03 maximum;

(xxxvi) Copper-coated or nickel-coated cold-rolled slit-to-width steel, in coils, designated as N-491 and meeting the characteristics described below:

(A) Products having a thickness of 0.508 mm to 0.889 mm and width of 34.671 mm to 51.82 mm; with chemical composition (percent by weight): carbon 0.05 to 0.08, manganese 0.27 to 0.45, phosphorus 0.015 maximum and sulphur 0.035 maximum; with the following other properties: cold-rolled from low carbon rimmed, capped, aluminum-killed or continuous cast steel; uniformly coated with smooth and clean copper, free from pits, blisters, or roughness; deposited electrolytically on the two flat surfaces of the product in a quantity not less than 54.93 g per m² (18 oz per ft²) of product (both sides) or 27.46 g per m² (0.09 oz per ft²) of surface (one side) and not more than 100.7 g per m² (0.33 oz per ft²) of product (both sides) or 50.35 g per m² (0.165 oz per ft²) of surface (one side); wound in coils with an inside diameter of 406 mm to 419 mm; with minimum outside diameter of 508 mm and maximum outside diameter of 1,219 mm; or

(B) Products having a thickness of 0.508 mm to 0.889 mm and width of 34.671 mm to 51.82 mm; with chemical composition (percent by weight): carbon 0.030 to 0.050, manganese 0.11 to 0.20, phosphorus 0.025 maximum, sulphur 0.020 maximum, silicon 0.025 maximum, aluminum 0.025 to 0.07 and nitrogen 0.007 maximum; with copper plus nickel plus chromium 0.150 maximum; with the following other properties: low carbon aluminum killed steel made by continuous casting process; uniformly coated with nickel free from pits or blisters deposited electrolytically on one surface (plated side) of the product in a minimum thickness of 0.00381 mm and the bare side of the product with a maximum of 0.000762 mm of nickel thickness; the plated product is then annealed, and wound in coils with a maximum inside diameter of 508 mm and a maximum outside diameter of 1,727.2 mm;

(xxxvii) Hot-rolled carbon steel bar products, in coils, designated as N-303 and meeting the characteristics described below:

(A) Products known in industry usage as JIS SCM420HVC, having a diameter of 34.0 mm (with tolerances of ±1 mm); with chemical composition (percent by weight): carbon 0.17 to 0.23, silicon 0.15 to 0.35, manganese 0.55 to 0.90, phosphorus 0.030 maximum, sulfur 0.010 to 0.030, copper 0.30 maximum, nickel 0.25 maximum, chromium 0.85 to 1.25, molybdenum 0.10 to 0.25 and niobium (columbium) 0.030 to 0.060;

(B) Products known in industry usage as JIS SCR420HVC, having a diameter of 39.1 mm and 41.5 mm (with tolerances of ±1 mm); with chemical composition (percent by weight): carbon 0.17 to 0.23, silicon 0.15 to 0.35, manganese 0.55 to 0.90, phosphorus 0.030 maximum, sulfur 0.010 to 0.030, copper 0.30 maximum, nickel 0.25 maximum, chromium 0.85 to 1.25 and oxygen 0.0015 maximum; or

(C) Products known in industry usage as JIS SCM435HVC; having a diameter of 33.5 mm (with tolerances of ±0.05 mm); with chemical composition (percent by weight): carbon 0.32 to 0.39, silicon 0.15 to 0.35, manganese 0.55 to 0.90, phosphorus 0.030 maximum, sulfur 0.010 to 0.015, copper 0.30 maximum, nickel 0.25 maximum, chromium 0.85 to 1.25 and molybdenum 0.10 to 0.25;

(xxxviii) Austenitic manganese steel round and flat bars (Bohler K700), with chemical composition (percent by weight): carbon 1 to 1.3, silicon 0.10 to 0.45, manganese 12.00 to 14.00, phosphorus 0.035 maximum, sulfur 0.040 maximum, chromium 0.50 maximum, molybdenum 0.150 maximum and nickel 0.40 maximum; the foregoing designated as N-387;

(xxxix) Standard rephosphorized and resulfurized carbon steel bars and rods (AISI 1200 Series), designated as N-392 and entered in an aggregate annual quantity not to exceed 30,000 t, the foregoing in coils or straight lengths, not further worked than hot-rolled, of a type known in industry usage as XLCUT; with chemical composition (percent by weight): 0.04 or more phosphorus, 0.24 or more but not over 0.35 sulfur and 0.23 or more but not over 0.35 lead; manganese-to-sulfur ratios of greater than 3:1; reduction ratio for coiled bar and rod of a minimum of 150:1 and for straight bar and rod of a minimum of 35:1; fully surface inspected and certified by the importer to be free from defects deeper than 2 percent of bar and rod diameter or section; certified as free from mixes; achieved by 100 percent spectrometer testing;

(xl) Galvanized, cold formed steel channels, designated as N-495, with surface finish of smooth in-line galvanized zinc coating with controlled mass of 100 g/m² minimum applied after forming by a specialized continuous process, with the zinc coating further passivated to resist white rust; not further cold worked; not manufactured from pre-galvanized product; supplied in lengths of approximately 6.096 m; with the following specifications: product specification TS100, with channels, size range: (i) 76.2 mm × 38.1 mm, 101.6 mm × 50.8 mm or 127 mm × 63.5 mm, with a thickness of 3.96mm and yield strength of 450 MPa, or (ii) 152.4 mm × 76.2 mm, 177.8 mm × 76.2 mm or 203.2 mm × 76.2 mm, with a thickness of 4.77 mm and yield strength of 450 MPa, or (iii) 203.2 mm × 76.2 mm, 228.6 mm × 76.2mm, 254 mm × 88.9 mm or 304.8 mm × 88.9 mm, with a thickness of 5.94 mm, 250 × 90 mm or 300 × 90 mm with thickness of 6.0 mm and a yield strength of 450 MPa, or (iv) 304.8 mm × 88.9 mm × 7.95 mm or 300 mm × 90 mm × 6.0 mm, with a yield strength of 400 MPa; tolerances: squareness (angular tolerance); with included angle between the sides of a channel of 90 degrees; with maximum out of squareness of a channel in accordance with the following: where the shorter leg length is less than 50.8 mm ± 2.0 degrees, where the shorter leg length is greater than 50.8 mm but less than 76.2 mm ± 1.5 degrees, where the shorter leg length is greater than 76.2 mm ± 1.0 degree; twist: maximum angle of twist 1 degree over 1 m; feedstock produced by a fully killed, continually cast steel process to produce a feedstock material with fine grain with controlled and qualified chemistry (percent by weight): 0.20 maximum carbon, 1.60 maximum manganese, 0.10 maximum silicon, 0.10 maximum aluminum, 0.040 maximum phosphorus and 0.030 sulfur; with chemistry controlled to provide a carbon equivalent of no more than CE=0.39; all channels produced from flat product having a uniform cross section (wall thickness);

(xli) Hot-rolled carbon steel bar products designated as X-011 and meeting the characteristics described below:

(A) Products known in industry usage as JIS S35CL, having a diameter of 42 mm (with tolerances of plus or minus 1 mm); cut-to-length; with chemical composition (percent by weight): carbon 0.32 to 0.38, silicon 0.15 to 0.35, manganese 0.60 to 0.90, phosphorus 0.030 maximum, sulfur 0.015 maximum, copper 0.30 maximum, nickel 0.20 maximum, chromium 0.20 maximum, nickel plus chromium 0.35 maximum and lead 0.13 to 0.23; or

(B) Products known in industry usage as JIS S40CKM-1; having a diameter of 95 mm or 120 mm (with tolerances of ± 1 mm); cut-to-length; with chemical composition (percent by weight): carbon 0.36 to 0.44, silicon 0.15 to 0.35, manganese 0.40 to 0.70, phosphorus 0.03 maximum, sulfur 0.03 to 0.08, copper 0.10 maximum, nickel 0.10 maximum, nitrogen 0.010 to 0.020 and lead 0.10 to 0.20;

(xlii) Thermal refined, water quenched, and drawn hot-rolled bars, designated as X-075, with hardness 318 HV minimum, 83 kg/mm minimum tensile strength; 8 percent minimum elongation; microstructure consisting of tempered martensite for 5 mm to 8 mm followed by 1 mm of tempered martensite and transition products; general bar structure consisting of pearlite and ferrite; decarburization 0.85 maximum of bar diameter;

(xliii) Hot-rolled bars, designated as X-134 and meeting the characteristics described below:

(A) Products known in industry usage as “NAK 55,” the foregoing which are double-melted hot-rolled or forged plastic mold steel products, with chemical composition (percent by weight): carbon 0.15, manganese 1.50, sulfur 0.10, copper 1.00, silicon 0.30, molybdenum 0.30, nickel 3.00 and aluminum 1.00; displaying the following minimum mechanical properties: hardness of HRC 40, yield strength (0.2 percent offset, 41 HRC) of 1010 MPa, tensile strength of 1255 MPa; reduction of 39.8 percent; elongation in 50 mm of 15.6 percent; with Charpy-notch impact strength longitudinal 9.8 J and transverse of 7.6 J; displaying the following physical properties: coefficient of thermal expansion from 20 °C to 100 °C of 11.3 × 10⁻⁶ °C⁻¹, from 20 °C to 200 °C of 12.6 × 10⁻⁶ °C⁻¹ and from 20 °C to 300 °C of 13.5 × 10⁻⁶ °C⁻¹; coefficient of thermal conductivity (J/(smK)) at 93 °C of 41.4 or at 204 °C of 42.2; having magnetic properties of maximum magnetic permeability of 380, saturated magnetism of 16,350 Gauss and residual magnetism of 8,500 Gauss;

(B) Products known in industry usage as “NAK 80,” the foregoing being a plastic mold steel used for applications such as clear lens molds and extremely critical diamond finish applications, with chemical composition (percent by weight): carbon 0.15, manganese 1.50, molybdenum 0.30, copper 1.00, silicon 0.30 , nickel 3.00 and aluminum 1.00; minimum mechanical properties: HRC 40; tensile strength 1264 MPa; reduction 41.9 percent; yield strength (0.2 percent offset, 41 HRC) 1018 MPa; elongation in 50 mm (longitudinal) 16.1 percent; Charpy V-Notch impact strength (toughness): longitudinal 11.0 J.; transverse 11.5 J.; physical properties: coefficient of thermal expansion (10⁻⁶/K), 20 °C to 100 °C of 11.3, 20 °C to 200 °C of 12.6, 20 °C to 300 °C of 13.5; coefficient of thermal conductivity (J/(smK)) at 93 °C of 41.4, at 204 °C of 42.2; magnetic properties: maximum magnetic permeability 380, saturated magnetism (gauss) 16,360, residual magnetism (gauss) 8,500, and coercive force (Oersted) 14.0; double melted, first in an electric furnace then in a vacuum arc re-melt furnace, hot-rolled or forged to shape and age hardened to Nickel 40; and produced through a super clean, vacuum-arc remelt manufacturing process;

(C) Products known in industry usage as “Super NAK” (“NAK HH”), the foregoing being a plastic mold steel providing a unique combination of high hardness and ability to machine-work the steel; with the following chemical composition (percent by weight): carbon 0.11, manganese 1.4, copper 1.0, chromium 1.6, aluminum 1.0, silicon 0.30, sulfur 0.35, nickel 3.0 and molybdenum 0.3; physical properties: HRC 45; tensile strength 1385 MPa longitudinal, 1359 MPa transverse; yield strength 1031 MPa longitudinal, 1,009 transverse, elongation 11 percent longitudinal, 4 percent transverse, reduction of area 22 percent longitudinal, 6 percent transverse; density of 7.78 mg/m³; produced in an electric furnace then vacuum arc re-melt furnace; hot-rolled or forged to shape; and age hardened to HRC 45 to 48;

(D) Products known in industry usage as “PX5,” the foregoing being a plastic mold steel used in all types of plastic molding and design, and is superior to AISI grade P20-type steels in terms of machining, stability, and welding; with the following chemical composition (percent by weight): carbon 0.20, manganese 1.90, sulfur 0.035, molybdenum 0.45, copper 0.10, silicon 0.10 percent, phosphorus 0.010, nickel 0.20, aluminum 0.030 and chromium 2.10; minimum mechanical properties: HRC 30 to 33; tensile strength 1,034 MPa; reduction 48 percent; yield strength 917 MPa; elongation in 50 mm (longitudinal) 20 percent; physical properties: coefficient of thermal expansion (10⁻⁶/K), 20 °C to 100 °C of 11.9, 20 °C to 200 °C of 12.8, 20 °C to 300 °C of 13.1, 20 °C to 400 °C of 13.5 and 20 °C to 600 °C of 14.0; coefficient of thermal conductivity (J/(smK)) at 20 °C of 42.5, at 100 °C of 42.4, at 200 °C of 42.1, at 300 °C of 39.2 and at 400 °C of 38.8; produced by electric furnace melting, ladle degassed and refined; proprietary forging, rolling and heat-treating practices are utilized to produce an exceptionally fine-grained, stable, tough and easy to machine and weld mold steel; or

(E) Products known in industry usage as “CX1,” the foregoing being a proprietary cold work die steel that is supplied heat treated to hardness of HRC 50, and can also be machined at this hardness, with the following chemical composition (percent by weight): carbon 0.80, manganese 1.30 chromium 1.00 and molybdenum 0.80; mechanical properties (as supplied): HRC 50; tensile strength 1786 MPa; yield strength 1641 MPa; elongation 8 percent; and reduction in area 19 percent; physical properties: coefficient of linear thermal expansion (10⁻⁶/K): 20 °C to 200 °C of 12.9 or 20 °C to 420 °C of 13.9; coefficient of thermal conductivity (J/(smK)) at 20 °C of 30.7; density 7.71 mg/m³; produced by electric furnace melting, ladle degassing and refining; having undergone proprietary forging, rolling and heat-treating practices utilized to produce an exceptionally fine-grained, stable, tough and easy to machine and weld die steel;

(xliv) Ball bearing quality hot-rolled bar or wire rod steel, SAE/AISI grade 52100 or JIS SUJ2 specifications, the foregoing designated as X-188;

(xlv) Hot-rolled sheet, in coils, designated as N-300, the foregoing produced to specification API 5L Grade X-52; with chemical composition (percent by weight): Carbon 0.03 to 0.07, manganese 0.95 to 1.20, phosphorus not over 0.010, sulfur not over 0.002, silicon 0.170 to 0.250, copper not over 0.15, nickel not over 0.10, chromium not over 0.07, molybdenum not over 0.03, nitrogen not over 0.009, aluminum 0.020 to 0.050, tin not over 0.020, vanadium not over 0.008, niobium (colombium) 0.016 to 0.026, titanium not over 0.008 and calcium 0.0004 to 0.0050; having the following physical properties: yield ratio of less than 0.900; factor formula of C + Mn/5 + 2(Cb); factor range of 28 to 35; thickness range of 6.35 mm or more but not over 12.70 mm; width range of 1,032.027 mm or more but not over 1,735.38 mm; thickness tolerance: aim ½ ASTM tolerance, except 40 m both ends to be 3/4 ASTM per A568-96, Table 4 and A635-96, Table 4; width tolerance: plus 19.05 mm, minus 0.00 mm, aim plus 10.16 mm (untrimmed); crown tolerance: aim 0.0508 mm, range (minimum minus 0.0127 mm/maximum 0.0762 mm); coil inside diameter of 762.0 mm; coil outside diameter of a maximum of 1,828.8 mm, not to exceed 20,901 kg coil weight; other properties: calcium treated with calcium to sulfur ratio of between 2:1 and 5:1; all heats must be vacuum degassed; oxygen content must be less than 25 ppm; steel produced shall be suitable for HIC-resistant applications as determined by NACE standard TM 0284-96, all the foregoing certified for use in the manufacturing into line pipe;

(xlvi) Hot-rolled flat-rolled steel, designated as N-316 and meeting the characteristics described below:

(A) High strength low alloy grade 100 light gauge steel, with the following characteristics: thickness of 2.3 mm to 3.0 mm; width from 1016 mm to 1524 mm; with chemical composition (percent by weight): carbon not over 0.1, manganese not over 2.0, phosphorus not over 0.025, sulfur not over 0.01, silicon not over 0.4, aluminum 0.02 to 0.06, titanium not over 0.02, molybdenum not over 0.5, niobium (columbium) not over 0.09 and vanadium not over 0.2; yield strength of 700 to 800 MPa; tensile strength of 750 to 910 MPa; elongation not less than 13 percent; and guaranteed bending radius of 1.6 times;

(B) High strength low alloy grade 100 light gauge steel, with the following characteristics: thickness 4.5 mm or more but not over 12.7 mm; width 1.524 m or more but not over 1.829 m; with chemical composition (percent by weight): carbon not over 0.1, manganese not over 2.0, phosphorus not over 0.025, sulfur not over 0.01, silicon not over 0.4, aluminum 0.02 to 0.06, titanium not over 0.02, molybdenum not over 0.5, niobium (columbium) not over 0.09 and vanadium not over 0.2; yield strength of 700 to 800 MPa; tensile strength of 750 to 910 MPa; elongation not less than 13 percent; guaranteed bending radius of 1.6 times a thickness less than 6 mm and 1.8 times a thickness greater than 6 mm; or

(C) Temper passed grade A1001CSB/1008 CQ products, with thickness 3.1 mm or more but not over 3.6 mm and width 2032 mm or more; yield strength of 179 to 340 MPa; tensile strength of 440 MPa maximum; minimum elongation of 28 percent; with chemical composition (percent by weight): carbon not over 0.1, manganese not over 0.5, phosphorus not over 0.03, sulfur not over 0.03, silicon not over 0.03, copper not over 0.04, nickel not over 0.04, chromium not over 0.04 and aluminum over 0.01;

(xlvii) Hot-rolled flat-rolled products, in coils, the foregoing designated as X-025 and meeting the characteristics described below:

(A) Products with chemical composition (percent by weight): carbon 0.10 to 0.16, manganese 0.70 to 0.90, phosphorus not over 0.025, sulfur not over 0.002, silicon 0.30 to 0.50, chromium 0.50 to 0.70, copper not over 0.25, nickel not over 0.20 and molybdenum not over 0.21; with the following other properties: width not over 1,138 mm; thickness not over 8.89 mm; yield strength greater than or equal to 551 N/mm²; tensile strength 724 N/mm²; thickness tolerance according to half of ASTM 568 specification; elongation greater than or equal to 16 percent; hardness of 70 to 105 HRB; pickled and oiled; surface condition free of injurious defects such as holes, breaks, scabs, scale, and embosses; product must enable coiled tubing to satisfy fatigue test (SPE papers 22820, 38407 and 54482) constantly;

(B) Products with chemical composition (percent by weight): carbon 0.10 to 0.14, manganese 1.30 to 1.80, phosphorus not over 0.025, sulfur not over 0.001, silicon 0.30 to 0.50, chromium 0.50 to 0.70, copper 0.20 to 0.40, nickel not over 0.20, vanadium not over 0.10 and niobium (columbium) not over 0.08; with the following other properties: width not over 1,138 mm; thickness not over 8.89 mm; yield strength greater than or equal to 551 N/mm²; tensile strength 724 N/mm²; thickness tolerance according to half of ASTM 568 specification; elongation 14 percent or more; hardness of 80 to 105 HRB; pickled and oiled; surface condition free of injurious defects such as holes, breaks, scabs, scale, and embosses; product produced to enable coiled tubing to satisfy fatigue test (SPE papers 22820, 38407, and 54482);

(C) Products with chemical composition (percent by weight): carbon not over 0.15, manganese not over 1.40, phosphorus not over 0.025, sulfur not over 0.010, silicon not over 0.50, chromium not over 1.00, copper not over 0.50, nickel not over 0.20, niobium (columbium) 0.005 or more and aluminum 0.01 to 0.07; calcium treated; with the following other properties: width not over 1,000 mm; thickness not over 4.6 mm; yield strength 482 N/mm² or more; tensile strength 551 N/mm² or more; thickness tolerance according to half of ASTM 568 specification; pickled and oiled; surface condition free of injurious defects such as holes, breaks, scabs, scale, and embosses; product produced to enable coiled tubing to satisfy fatigue test (SPE papers 22820, 38407, and 54482);

(D) Products with chemical composition (percent by weight): carbon 0.10 to 0.15, manganese 1.30 to 1.80, phosphorus not over 0.025, sulfur not over 0.001, silicon 0.30 to 0.50, chromium 0.30 to 0.70, copper 0.20 to 0.40, nickel not over 0.20, molybdenum not over 0.40, niobium (columbium) not over 0.08 and vanadium not over 0.10; with the following other properties: width not over 1,138 mm; thickness not over 8.89 mm; yield strength 482 N/mm ² or more; thickness tolerance according to half of ASTM 568 specification; elongation 14 percent or more; hardness of 80 to 110 HRB; pickled and oiled; surface condition free of injurious defects such as holes, breaks, scabs, scale, and embosses; product produced to enable coiled tubing to satisfy fatigue test (SPE papers 22820, 38407, and 54482);

(E) Products with chemical composition (percent by weight): carbon 0.10 to 0.16, manganese 0.70 to 0.90, phosphorus not over 0.020, sulfur not over 0.002, silicon 0.30 to 0.50, chromium 0.50 to 0.70, copper not over 0.25, nickel not over 0.20 and molybdenum not over 0.21; with the following other properties: width not over 1,138 mm; thickness not over to 8.89 mm; yield strength of 355 N/mm² to 569 N/mm²; tensile strength 482 N/mm² or more; thickness tolerance according to half of ASTM 568 specification; elongation 18 percent or more; hardness of 9 to 25 HRC; pickled and oiled; surface condition free of injurious defects such as holes, breaks, scabs, scale, and embosses; product produced to enable coiled tubing to satisfy fatigue test (SPE papers 22820, 38407, and 54482);

(xlviii) Alloy and nonalloy flat-rolled products, designated as X-083 and entered in an aggregate annual quantity not to exceed 20,000 t during the 12-month period beginning on July 12, 2002 or July 12, 2003 or during the period July 12, 2004 through March 20, 2005, inclusive, the foregoing not further worked than hot-rolled, with the following features: sulfur content 0.005 percent by weight maximum; elongation: 18 percent minimum/31 percent maximum for 1.6 mm to 2.0 mm, 20 percent minimum/32 percent maximum for 2.0 mm to 3.2 mm, 21 percent minimum/33 percent maximum for 3.2 mm to 6.3 mm, 22 percent minimum for 6.3 mm to 12.00 mm; total thickness tolerance: 0.20 mm maximum for 1.6 mm to 4.0 mm, 0.25 mm maximum for 4.0 mm to 6.0 mm, 0.30 mm maximum for 6.0 mm to 8.0 mm, 0.35 mm maximum for 8.0 mm to 12.0 mm; with in-line temper-passed and tension-leveled hot-rolled pickled and oiled flat-rolled products of nonalloy steel in grade 50 meeting the following chemical composition (percent by weight): carbon 0.03 to 0.08, manganese 0.1 to 1.3, silicon not over 0.03, aluminum 0.02 to 0.04, phosphorus not over 0.02, sulfur not over 0.008, copper not over 0.05, nickel not over 0.1, chromium not over 0.1, niobium (columbium) 0.01 to 0.04, titanium not over 0.03, vanadium not over 0.008 and nitrogen not over 0.009; with the combined silicon and phosphorus content not over 0.09; the combined niobium (columbium), titanium, and vanadium content not over 0.22; and carbon equivalent not over 0.36; yield strength of 345 to 448 MPa; tensile strength of 448 to 586 MPa; elongation of 21 percent minimum; thickness 2.4 mm to 7.5 mm; width 1200 mm to 1652 mm; with a typical whiteness value of 70 on scale L*, certified to flatness guarantee of 4 international units before and after laser cutting and to guarantee of no visible defect after painting for both sides of flat panel; and with visible defects including blemishes due to roll marks, pits, tolling scale and scratches;

(xlix) Hot-rolled flat-rolled products, in coils, having width of 1943.1 mm, tolerances of plus 6.35 mm, minus 0.000; composed according to specification SAE C-1006 DQSK, the foregoing designated as X-104;

(l) Hot-rolled flat-rolled steel products, designated as X-108 and meeting the characteristics described below:

(A) Products with thickness of 2 mm or more but not over 11.1 mm; width of 875 or more but not over 1625 mm; minimum yield strength of 689.48 MPa, minimum tensile strength of 158.4 MPa, minimum elongation of 15 percent, bendability of 1.6 to 1.8 times thickness, impact toughness of 27.1 J at -17.8 °C; with chemical composition (percent by weight): maximum carbon 0.12, maximum silicon 0.60, maximum manganese 2.0, maximum phosphorus 0.025, maximum sulfur 0.01, maximum titanium 0.20 and minimum aluminum 0.015 percent; or

(B) Weather resistant steel products, with a thickness of 2.3 mm or more but not over 6.5 mm and width of 875 mm or more but not over 1600 mm; minimum yield strength of 689.48 MPa, minimum tensile strength of 724 MPa, minimum elongation of 18 percent, bendability of 1 times thickness, impact toughness of 27.1 J at −17.8 °C; with chemical composition (percent by weight): maximum carbon 0.10, maximum silicon 0.45, maximum manganese 0.8 and maximum phosphorus 0.012 percent, with microalloying elements added;

(li) Hot-rolled flat-rolled steel products, designated as X-142 and meeting the characteristics described below:

(A) High-carbon alloy steel, with widths greater than 914 mm and made to the following specification: SAE 8660 (modified) (unit: percent by weight, ladle analysis): carbon 0.61 to 0.72, manganese 0.30 to 0.50, nickel 0.60 to 0.90 and molybdenum 0.10 to 0.15;

(B) High-carbon alloy steel, with widths greater than 914 mm and made to the following specification: SAE 8670 (modified); with chemical composition (percent by weight): carbon 0.67 to 0.75, manganese 0.40 to 0.60, silicon 0.20 to 0.35, phosphorus 0.035 maximum, sulfur 0.035 maximum, chromium 0.20 to 0.50, nickel 0.70 to 1.00 and molybdenum 0.11 to 0.15;

(C) Steel products with chemical composition (percent by weight): carbon 0.20 maximum, silicon 1.20 maximum, manganese 2.00 maximum, phosphorus 0.05 to 0.10, sulfur 0.02 maximum, copper 0.15 to 0.40, nickel 0.40 maximum, aluminum 0.10 maximum, niobium (columbium) 0.10 maximum, titanium 0.10 maximum, vanadium 0.10 maximum, boron 0.10 maximum, molybdenum 0.30 maximum; thickness 1.6 to 2.0 mm; tensile strength 590 MPa minimum; yield strength 450 to 600 MPa; and elongation 19 to 35 percent;

(D) Steel products with chemical composition (percent by weight): carbon 0.20 maximum, silicon 1.20 maximum, manganese 2.00 maximum, phosphorus 0.05 to 0.10, sulfur 0.02 maximum, copper 0.15 to 0.40, nickel 0.40 maximum, aluminum 0.10 maximum, niobium (columbium) 0.10 maximum, titanium 0.10 maximum, vanadium 0.10 maximum, boron 0.10 maximum and molybdenum 0.30 maximum; thickness 2.0 to 3.0 mm; tensile strength 590 MPa minimum; yield strength 440 to 590 MPa; and elongation 20 to 36 percent; or

(E) Steel products with chemical composition (percent by weight): carbon 0.20 maximum, silicon 1.20 maximum, manganese 2.00 maximum, phosphorus 0.05 to 0.10, sulfur 0.02 maximum, copper 0.15 to 0.40, nickel 0.40 maximum, aluminum 0.10 maximum, niobium (columbium) 0.10 maximum, titanium 0.10 maximum, vanadium 0.10 maximum, boron 0.10 maximum and molybdenum 0.30 maximum; thickness 3.0 to 6.0 mm; tensile strength 590 MPa minimum; yield strength 430 to 580 MPa; and elongation 21 to 37 percent;

(lii) Alloy steel plate, designated as N-316, the foregoing known in industry usage as “SP 300” and in the form of pre-forged and rolled blocks or forged extra-heavy section blocks; with the following characteristics: thickness 152 mm or more; hardness of 269 to 304 BHN or 290 to 320 BHN; through hardness dispersion not exceeding 15 BHN for thicknesses not over 203 mm and 30 BHN for thicknesses of 203 or more but not over 1,270 mm; conforming to ASTM A578-S9 ultrasonic testing requirements; 2mm flat bottom hole; guaranteed cleanliness per ASTM E45 Method A (worst field ratings: A—not exceeding 1.5, B—not exceeding 1.5, C—not exceeding 1.0, D—not exceeding 1.5); with chemical composition (percent by weight): carbon 0.235 to 0.275, chromium 1.2 to 1.5, manganese 1.2 to 1.5, molybdenum 0.35 to 0.55, silicon 0.05 to 0.15 and sulfur 0.015 to 0.02; oxygen content not exceeding 20 ppm and hydrogen content not exceeding 2 ppm;

(liii) Hot-rolled weldable, soft magnetic special structural alloy steel plate, with increased electrical resistivity of the grade magnetic soft hot rolled (MSH), with thickness 4.75 mm or more but not over 50 mm and width 1016 mm or more but not over 3302 mm; with chemical composition (percent by weight): carbon 0.10 or more, silicon 1.00 to 2.00, manganese 0.15 to 0.60, phosphorus 0.02 or more, sulfur 0.01 or more, chromium 0.65 to 1.00, copper 0.55 or more, aluminum not over 0.02 and titanium 0.02 or more; yield strength of 275 MPa minimum; tensile strength of 430 to 550 MPa and elongation of 24 percent minimum; the foregoing designated as N-467;

(liv) Products designated as X-083 and meeting AISI 4142, the foregoing with dimensions of 1,651 mm by 3,683 mm; thickness of 6 mm to 230 mm; cross rolled in thickness up to 203 mm and forged and hot rolled in thickness greater than 203 mm; through-hard throughout the entire plate with a maximum dispersion of 30 BHN; conforms to ultrasonic testing requirements per ASTM A578-S9 with a 2 mm flat bottom hole used for calibration; microcleanliness ratings per ASTM E-45 method D where the sum of the ratings does not exceed 25 and the maximum worst field ratings are A: 1.0 maximum (thin) and 0.5 maximum (heavy), B: 1.0 maximum thin) and 0.5 maximum (heavy), C: 0.5 maximum (thin and heavy), D: 0.5 maximum. (thin and heavy); flatness that does not exceed 3 mm per meter, with a maximum of 5 mm over the entire length of 3683 mm; with chemical composition (percent by weight): carbon 0.36 to 0.42, manganese 1.10 to 1.30, silicon 0.35 to 0.45, sulfur 0.012 to 0.020, phosphorus not over 0.03, nickel 0.25 to 0.50, chromium 1.00 to 1.20, molybdenum 0.15 to 0.35 and copper not over 0.30; with O2 not exceeding 20 ppm and H2 not over 2 ppm; known in industry usage as “Marshalloy MQ™” mold quality;

(lv) Flat-rolled hot-rolled plate, designated as X-100 and entered in an aggregate annual quantity not to exceed 75,000 t during the 12-month period beginning on July 12, 2002 or July 12, 2003 or during the period July 12, 2004 through March 20, 2005, inclusive; the foregoing not in coils; of a thickness greater than 4.74 mm; certified for use in the production of large diameter line pipe (greater than 406 mm in diameter); yield strength greater than or equal to 483 MPa;

(lvi) Stainless steel bars, designated as N-387 and known in industry usage as “RAMAX S”, the foregoing being a modified AISI 400 stainless sulfurized plastic mold steel; with chemical composition (percent by weight): carbon 0.31 to 0.36, silicon 0.20 to 0.50, manganese 1.20 to 1.50, phosphorus not over 0.035, sulfur 0.08 to 0.15, chromium 16.2 to 17.0, nickel 0.40 to 0.70, molybdenum not over 0.60; vanadium not over 0.40, nitrogen 0.10 to 0.14, copper not over 0.30, aluminum not over 0.030 and hydrogen less than 7.0 ppm; if round sections then diameter from 28 mm to 500 mm; if flat sections then thickness 43 mm to 305 mm and width 300 mm to 1,016 mm; vacuum degassed; minimum criterion on cleanliness according to ASTM E45/87, Method A plate I.; Slag type A; T-, H-; Slag type B; T 2.0, H 2.0; Slag type C; T 1.0, H 1.0; Slag type D; T .0, H less than 1.0;

(lvii) Stainless steel bar, designated as N-387 and known in industry usage as “STAVAX Supreme,” the foregoing which is a premium modified AISI 420 stainless plastic mold steel; with chemical composition (percent by weight): carbon 0.21 to 0.26, silicon 0.20 to 0.50, manganese 0.40 to 0.70, phosphorus 0.025, sulfur not over 0.0050, chromium 13.0 to 13.60, nickel 1.25 to 1.45, molybdenum 0.30 to 0.40, vanadium 0.30 to 0.40, titanium and niobium (columbium) each not over 0.0050, nitrogen 0.10 to 0.14, copper not over 0.15 and aluminum 0.010 to 0.025; hydrogen less than 3 ppm and oxygen less than 15 ppm; dimensions round from 12.7 mm to 762 mm and flat thickness 11 mm to 610 mm, width 45 mm to 915 mm; vacuum degassed and pressure-electro-slag-remelting; cleanliness according to ASTM E45/87, Method A plate III; Slag type A; T less than 1, H less than 0.5; Slag type B; T less than 1, H less than 0.5; Slag type C; T less than1.5, H less than 1.0; Slag type D; T less than 1.0, H less than 0.5;

(lviii) Stainless steel bars, of round cross-section, designated as X-093, the foregoing in diameters of 6.35 mm to 101.6 mm, lengths of 3,048 mm to 4.572 mm; finished as follows: for X15TN finished via centerless grinding, or for X15TNW finished via rough-turning; with chemical composition nickel free and including (percent by weight): carbon 0.35 to 0.45, chromium 15.00 to 16.50, molybdenum 1.50 to 2.00, vanadium 0.15 to 0.35, nitrogen 0.15 to 0.25 and sulfur 0.0005 maximum;

(lix) Hot-rolled stainless steel bars, designated as X-219, finished black, in diameters up to 30 mm; lengths of 3,048 mm to 4,572 mm; with chemical composition (percent by weight): carbon 0.80 to 0.90, chromium 17.00 to 18.50, nickel not over 0.50, manganese not over 1.30, molybdenum 2.00 to 2.50, vanadium 0.35 to 0.55, silicon not over 1.00 and sulfur 0.0005 maximum;

(lx) Stainless steel wire, designated as X-018 and meeting the characteristics described below:

(A) Products known in industry usage as SF20T, with chemical composition (percent by weight): carbon 0.05 maximum; manganese 2.00 maximum, phosphorus 0.05 maximum, sulfur 0.15 maximum, silicon l.00 maximum, chromium 19.00 to 21.00, molybdenum 1.50 to 2.50, lead added 0.10 to 0.30, tellurium added 0.03 minimum; or

(B) Products known in industry usage as DSR16FA, with chemical composition (percent by weight): carbon 0.15 maximum, manganese 1.25 maximum, phosphorus 0.06 maximum, sulfur 0.10 to 0.18, silicon 1.00 maximum, chromium 10.50 to 14.00, molybdenum 0.10 to 0.40, lead added 0.07 to 0.30 and selenium added 0.10 minimum;

(lxi) Stainless steel wire, designated as X-177 and meeting the characteristics described below:

(A) ASL 813 rectangular or shaped wire, certified for use in the production of piston rings, the foregoing with chemical composition (percent by weight): carbon 0.60 to 0.70, silicon 0.25 to 0.50, manganese 0.20 to 0.50, phosphorus maximum 0.03, sulfur maximum 0.03, chromium 13.00 to 14.00, molybdenum 0.20 to 0.40 and remainder iron; decarburization less than 0.01 mm; and edge camber maximum of 10 mm per 1,000 mm length;

(B) ASL 874 rectangular or shaped wire, certified for use in the production of piston rings, the foregoing with chemical composition (percent by weight): carbon 0.80 to 0.95, silicon 0.35 to 0.50, manganese 0.25 to 0.40, phosphorus maximum 0.04, sulfur maximum of 0.04, chromium 17.0 to 18.0, molybdenum 1.00 to 1.25, vanadium 0.08 to 0.15, cobalt 3.8 to 4.2 and remainder iron; edge camber maximum of 10 mm per 1,000 mm length; and decarburization less than 0.01 mm;

(C) ASL 857 rectangular or shaped wire, certified for use in the production of piston rings, the foregoing with chemical composition (percent by weight): carbon 0.60 to 0.75, silicon 0.30 to 0.45, manganese 0.25 to 0.40, phosphorus maximum 0.04, sulfur maximum 0.03, chromium 14.0 to 16.0, molybdenum 0.90 to 1.15, vanadium 0.20 to 0.30, cobalt 6.0 to 8.0 and remainder iron; edge camber maximum of 10 mm per 1,000 mm length; and decarburization less than 0.01 mm;

(D) ASL 817 rectangular or shaped wire, certified for use in the production of piston rings, the foregoing with chemical composition (percent by weight): carbon 0.80 to 0.95, silicon 0.35 to 0.50, manganese 0.25 to 0.40, phosphorus maximum of 0.04, sulfur maximum 0.04, chromium 17.0 to 18.0, molybdenum 1.0 to 1.25, vanadium 0.08 to 0.15 and remainder iron; edge camber maximum of 10 mm per 1,000 mm length; and decarburization less than 0.01 mm;

(E) ASL 801 flat or shaped wire, certified for use in the production of spacer-expander (piston oil) rings, the foregoing with chemical composition (percent by weight): carbon maximum 0.12, silicon maximum 1.00, manganese 5.50 to 7.50, phosphorus maximum 0.60 percent, sulfur maximum 0.030, nickel 3.50 to 5.50, chromium 16.00 to 18.00 and nitrogen not over 0.25 percent; heat treatment condition: if ¾ hardened material, the hardness range between 59 and 67 when measured by the Rockwell Hardness Scale using 30 kilogram force load according to ASTM-E18 or hardness range between 386 and 485 when measured by the Vickers Hardness Scale using 1 kilogram force load according to ASTM-E92; if fully annealed material, hardness less than 260 when measured by the Vickers Hardness Scale using 1 kilogram force load according to ASTM-E92; microstructure uniformly solution treated or cold worked; and edge camber 8 mm maximum per 1000 mm length; or

(F) ASL 804 flat or shaped wire certified for use in the production of spacer-expanders, the foregoing with chemical composition (percent by weight): carbon maximum 0.08, silicon maximum 1.00, manganese maximum 2.00, phosphorus maximum 0.040, sulfur maximum 0.030, nickel 8.00 to 10.50 and chromium 18.00 to 20.00; edge camber 8 mm maximum per 1,000 mm length; microstructure uniformly solution treated or cold worked;

(lxii) Flat-rolled tin mill products, designated as N-316 and known in industry usage as USIBOR uncoated hardenable manganese-boron steel, in coils measuring 624 mm to 1,600 mm in width; 0.6 mm to 3.0 mm in thickness; with chemical composition (percent by weight): carbon not over 0.25, manganese not over 1.35, sulfur not over 0.008, aluminum not over 0.06, silicon not over 0.35, chromium not over 0.30, nitrogen not over 0.009, boron not over 0.004 and titanium not over 0.05; yield strength of 280 to 360 MPa; tensile strength of 390 to 510 MPa; elongation of 21 percent;

(lxiii) Flat-rolled products, designated as N-426, annealed, at least 0.2 mm in thickness but not more than 2.5 mm in thickness; at least 600 mm in width but not more than 1300 mm in width; plated with tin and zinc by a hot-dipped coating process, with the zinc content of the plating not less than 7 percent but not more than 9 percent by weight; with the tin content of the plating not less than 85 percent by weight; with a coating weight of at least 20 g/m² but not more than 100 g/m² per one side; given a special after-treatment with the coating weight of the after-treatment between 10 and 60 mg/m² of chromium per one side or, if no chromium is included in the after-treatment, with a coating weight of 100 to 1,500 mg/m² per side; characterized by the absence of environmental loading substance (Pb); exhibiting no red dust after 480 hours under the Salt Spray Test specified by JIS Z2371; with a press formability demonstrating equivalent mechanical properties to the substrate; weldability such that the number of the continuous spot weld test is more than 200; and, when the material is drawn into a cylindrical cup with a diameter of 50 mm formed with a drawing ratio of 2.2, filled with 40 ml of deteriorated gasoline (a solution of regular gasoline, soured gasoline and 10 percent water, containing 1,000 ppm formic acid, 2000 ppm acetic acid, and 100 ppm chlorine in water phase), and exposed to a temperature of 45 °C for 4 weeks; with the eluted volume of the coating less than 100 mg;

(lxiv) Flat-rolled heavy gauge tinplate, with a gauge of 0.52 mm or more, flow-melted for electrical components, T 2, batch annealed, chemical composition according to ASTM A 623, roughness according to ASTM 7B and 7C bright; surface free from visible defects; the foregoing designated as N-499;

(lxv) Flat-rolled electrolytically tin coated steel, designated as X-039 and meeting the characteristics described below:

(A) Products having differential coating with 11.2 g/m² equivalent on the heavy side, with varied coating equivalents on the lighter side; with a continuous cast steel chemistry of type MR; with a surface finish of type 7B or 7C; with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with maximum coil weight of 11,340 kg; with temper/coating/dimension combination of: CA T-4 temper, 11.2/5.6 g/m² coating, 0.196 mm thickness (+5 percent/-8 percent) and 842.962 mm width (+3 percent/−8 percent);

(B) Products having differential coating with 11.2 g/m² equivalent on the heavy side, with varied coating equivalents on the lighter side; with a continuous cast steel chemistry of type MR; with a surface finish of type 7B or 7C; with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with maximum coil weight of 11,340 kg; and with temper/coating/dimension combination of: CA T-5 temper, 11.2/5.6 g/m² coating, 0.208 mm thickness (+5 percent/−8 percent) and 887.412 or 868.362 mm widths (+3 percent/−8 percent);

(C) Products having differential coating with 11.2 g/m² equivalent on the heavy side, with varied coating equivalents on the lighter side; with a continuous cast steel chemistry of type MR; with a surface finish of type 7B or 7C; with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with a maximum coil weight of 11,340 kg; and with temper/coating/dimension combination of: CA T-5 temper, 11.2/5.6g/m² coating, 0.300 mm thickness (+5 percent/−8 percent) and 776.287 or 903.287 mm widths (+3 percent/−8 percent);

(D) Products having differential coating with 11.2 g/m² equivalent on the heavy side, with varied coating equivalents on the lighter side; with a continuous cast steel chemistry of type MR; with a surface finish of type 7B or 7C, with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with a maximum coil weight of 11,340 kg; and with temper/coating/dimension combination of: CA T-4 temper, 11.2/2.8 g/m² coating, 0.196 mm thickness (+5 percent/−8 percent), and 893.762 mm or 841.375 mm or 836.612 mm widths (+3 percent/−8 percent);

(E) Products having differential coating with 11.2 g/m² equivalent on the heavy side, with varied coating equivalents on the lighter side; with a continuous cast steel chemistry of type MR; with a surface finish of type 7B or 7C, with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with a maximum coil weight of 11,340 kg; and with temper/coating/dimension combination of: DR-8 CA temper, 11.2/5.6 g/m² coating, 0.239 mm thickness (+5 percent/−8 percent), and 903.287 mm width (+3 percent/−8 percent); or

(F) Products having differential coating with 11.2 g/m² equivalent on the heavy side, with varied coating equivalents on the lighter side; with a continuous cast steel chemistry of type MR; with a surface finish of type 7B or 7C; with a surface passivation of 7.532 mg/m² of chromium applied as a cathodic dichromate treatment; with coil form having restricted oil film weights of 0.3 to 0.4 g/m² of type DOS-A oil; coil inside diameter ranging from 393.7 to 431.8 mm; coil outside diameter of a maximum 1,625.6 mm; with a maximum coil weight of 11,340 kg; and with temper/coating/dimension combination of: DR-8 CA temper, 11.2/2.8 g/m² coating, 0.168 mm thickness (+5 percent/−8 percent), and 912.812 mm width (+3 percent/−8 percent);

(lxvi) Flat-rolled tin free steel, designated as X-061, laminated on one or both sides of the surface with a polyester film, consisting of two layers (an amorphous layer and an outer crystal layer) containing not more than the indicated amounts of the following environmental hormones: 1 mg/kg BADGE (Bisphenol A diglycidyl ether), 1 mg/kg BFDGE (Bisphenol F diglycidyl ether), and 3 mg/kg BPA (Bisphenol A);

(lxvii) Flat-rolled products designated as X-083 and meeting the characteristics described below:

(A) Electrolytic tin plate, designated as X-083 and entered in an aggregate annual quantity not to exceed 4,006 t during the 12-month period beginning on July 12, 2002 or July 12, 2003 or during the period July 12, 2004 through March 20, 2005, inclusive, the foregoing single reduced, 0.180 mm to 0.350 mm in thickness (70 to 135 base box weight), in temper designations of T-1BA, T-2BA, T-3BA or T-4CA; Type MR; No. 10 to No. 25 coating; with a 5C unmelted (matte) or 7C melted (stone) finish; width 1022.35 mm to 1174.75 mm; produced to ASTM 623-00 and A624-98; certified to be slit into two coils of equal widths, each coil having a widths of 508 mm or more but not over 609.6 mm, for use in manufacturing of engine gaskets, filters or pail bodies; or

(B) Flat-rolled products, double-reduced, electrolytically plated with tin and/or chromium; thickness not over 0.137 mm ± 5 percent; certified by the importer as manufactured to ASTM A623 type MR specifications; tensile strength of 552 to 572 MPa; manufactured through reduction on a DR temper mill following cold-rolling; and DR8-quality mechanical properties;

(lxviii) Welded pipes and tubes of iron or nonalloy steel, designated as N-319, the foregoing if in standard metric sizes and of square section then measuring 25 mm to 180 mm in diameter, with a wall thickness of 3 mm or more but not over 10 mm, or if of rectangular section with the smallest side measuring at least 25 mm and the largest side measures not over 200 mm; with chemical composition (percent by weight): carbon 0.22 maximum, manganese 1.6 maximum, silicon 0.55 maximum, phosphorus 0.04 maximum, sulfur 0.05 maximum and remainder iron;

(lxix) Welded structural pipes and tubes of alloy or nonalloy steel, designated as X-186, elliptically shaped, meeting ASTM A501, Chapter 10, points 10.4 and 10.5.

(lxx) Cold-rolled flat-rolled products designated as X-046, and meeting the characteristics described below:

(A) Products known in industry usage as “Docol 800 DP” or as “Docol 115”; dual phase; in coils; minimum yield strength 496 MPa; minimum tensile strength 793 MPa; 9 percent minimum elongation; width 787 mm or more but not over 1,387 mm; thickness at least 0.5 mm but not more than 2.0 mm; with chemical composition (percent by weight): carbon 0.13, silicon 0.20, manganese 1.5, phosphorus 0.015 max, sulfur 0.002 max, niobium (columbium) 0.015 and aluminum 0.04;

(B) Product known in industry usage as “Docol 140 DP'; dual phase; thickness at least 0.5 mm but not more than 2 mm; width 889 mm or more but not over 1,400 mm; minimum yield strength 552 MPa, minimum tensile strength 966 MPa; with chemical composition (percent by weight): carbon 0.13, silicon 0.20, manganese 1.5, phosphorus 0.020 maximum, sulfur 0.004 maximum, niobium (columbium) 0.015 and aluminum 0.04; and bendability of 1 times thickness inside radius for 90 degrees bend;

(C) Products known in industry usage as “Docol 1000 DP” or as “Docol 145 DP'; dual phase; thickness at least 0.5 mm but not over 2 mm; width at least 787 mm but not over 1,400 mm; minimum yield strength 689 MPa; minimum tensile strength 1,000 MPa ; minimum elongation 5 percent; with chemical composition (percent by weight): carbon 0.15, silicon 0.20, manganese 1.5, phosphorus not over 0.015, sulfur 0.002 maximum, niobium (columbium) 0.015 and aluminum 0.04;

(D) Products known in industry usage as “Docol 600 DL” or as “Docol 85”; dual phase; thickness 0.5 mm or more but not over 2 mm; width 780 mm or more but not over 1,400 mm; minimum yield strength of 345 MPa; minimum tensile strength of 586 MPa; bendability of 0 times thickness for 180 degree bend; with chemical composition (percent by weight): carbon 0.11, silicon 0.020, manganese 0.70, phosphorus not over 0.05, sulfur not over 0.01 and aluminum 0.04;

(E) Products known in industry usage as “Docol 800 DL” or as “Docol 115”; dual phase; in coils; minimum yield strength 386 MPa; minimum tensile strength 793 MPa; minimum elongation 14 percent; width 787 mm or more but not over 1,400 mm; thickness 0.5 mm or more but not over 2 mm; with chemical composition (percent by weight): carbon 0.14, silicon 0.20, manganese 1.7, phosphorus not over 0.015, sulfur not over 0.02, niobium (columbium) 0.015 and aluminum 0.04; or

(F) Products known in industry usage as “Docol 600 DP” or as “Docol 85 DP”; dual phase; thickness 0.5 mm or more but not over 2 mm; width 780 mm or more but not over 1,400 mm; minimum yield strength of 345 MPa; minimum tensile strength of 586 MPa; minimum elongation of 17 percent; bendability of 0 times thickness for 180 degree bend; with chemical composition (percent by weight): carbon 0.11, silicon 0.020, manganese 0.70, phosphorus not over 0.05, sulfur not more than 0.01 and aluminum 0.04;

(lxxi) Hot-rolled, flat-rolled products, designated as X-083 or X-089, the foregoing with chemical composition (percent by weight): carbon 0.10 to 0.20, manganese 0.50 to 1.00, phosphorus not more than 0.02, sulphur not more than 0.005, silicon 0.20 to 0.50, chromium 0.40 to 0.70, copper 0.05 to 0.40, nickel 0.05 to 0.30, molybdenum 0.05 to 0.50, vanadium not over 0.02, niobium (columbium) not over 0.05, titanium not more than 0.03, with total combined vanadium, niobium (columbium) and titanium content of 0.01 to 0.07, aluminum 0.01 to 0.05 and containing iron; minimum tensile strength 745 MPa; minimum yield strength 606 MPa; and elongation of at least 18 percent;

(lxxii)Flat-rolled steel products, of a thickness of 0.5 mm or more but not over 2 mm, designated as X-120 and meeting the characteristics described below:

(A) Cold-rolled dual phase products, with a width of 780 mm or more but not over 1,600 mm; minimum yield strength 345 MPa; minimum tensile strength 586 MPa; minimum elongation 17 percent; bendability of zero times thickness for 180 degree bend; with chemical composition (percent by weight): carbon 0.11, silicon 0.20, manganese 0.70, phosphorus not over 0.05, sulfur not over 0.01 and aluminum 0.04;

(B) Cold-rolled dual phase products, with a width of 780 mm but not over 1,600 mm; minimum yield strength 276 MPa; minimum tensile strength 586 MPa; minimum elongation 21 percent; bendability of zero times thickness for 180 degree bend; with chemical composition (percent by weight): carbon 0.10, silicon 0.40, manganese 1.50, phosphorus not over 0.01, sulfur not over 0.01 and aluminum 0.04;

(C) Cold-rolled dual phase products, with a width of 780 mm or more but not over 1,600 mm; minimum yield strength 496 MPa; minimum tensile strength 793 MPa; minimum elongation 9 percent; bendability of 1 times thickness for 180 degree bend; with chemical composition (percent by weight): carbon 0.13, silicon 0.20, manganese 1.50, phosphorus not over 0.02, sulfur not over 0.002, niobium (columbium) 0.015 and aluminum 0.04;

(D) Cold-rolled dual phase products, with a width of 780 mm or more but not over 1,600 mm; minimum yield strength 689 MPa; minimum tensile strength 1,000 MPa; minimum elongation 6 percent; bendability of 3 times thickness for 180 degree bend; with chemical composition (percent by weight): carbon 0.15, silicon 0.20, manganese 1.50, phosphorus not over 0.015, sulfur not over 0.002, niobium (columbium) 0.015 and aluminum 0.04;

(E) Cold-rolled dual phase products, with a width of 875 mm or more but not over 1,275 mm; minimum yield strength 945 MPa; minimum tensile strength 1,207 MPa; minimum elongation 4 percent; bendability of 4 times thickness for 180 degree bend; with chemical composition (percent by weight): carbon 0.11, silicon 0.20, manganese 1.60, phosphorus not over 0.015, sulfur not over 0.002 and aluminum 0.04;

(F) Cold-rolled dual phase products, with a width of 875 mm or more but not over 1,275 mm; minimum yield strength 1,151; minimum tensile strength 1,314 MPa; minimum elongation 4 percent; bendability of 3 times thickness for 180 degree bend; with chemical composition (percent by weight): carbon 0.17, silicon 0.50, manganese 1.60 percent, phosphorus not over 0.015, sulfur not over 0.002, niobium (columbium) 0.015 and aluminum 0.04; or

(G) Corrosion resistant flat-rolled products, with a width of 780 mm or more but not over 1,600 mm; minimum yield strength 689 MPa; minimum tensile strength 896 MPa; minimum elongation 5 percent; bendability of 2 times thickness for 180 degree bend; with chemical composition (percent by weight): carbon 0.13, silicon 0.50, manganese 1.20 and phosphorus not over 0.02;

(H) Cold-rolled dual phase products, with minimum Brinell hardness rating 450 Hb; width 875 mm or more but not over 1,275 mm; minimum yield strength 1138 MPa; minimum tensile strength 1,413 MPa; minimum elongation 3 percent; bendability of 4 times thickness for 180 degree bend; with chemical composition (percent by weight): carbon 0.17, silicon 0.50, manganese 1.60, phosphorus not over 0.01, sulfur not over 0.01, niobium (columbium) 0.015 and aluminum 0.04;

(lxxiii) Flat-rolled products, coated with zinc-aluminum alloy consisting of 95 percent zinc and 5 percent aluminum by weight, known in industry usage as “RAGALR® GALFAN”; thickness not over 0.75 mm; width 1,220 mm or more; the foregoing designated as X-048;

(lxxiv) Products referred to as “Type 2 Z-bars”, the foregoing used in the manufacture of end sills for railway tank cars; containing vanadium; conforming to ASTM Standard A-572-50; in the approximate form of the letter “Z,” with one leg measuring approximately 180 mm and the opposite leg measuring approximately 102 mm; the foregoing designated as X-113;

(lxxv) Flat-rolled products, designated as X-022 and meeting the characteristics described below:

(A) Thermomechanically (TMCP) rolled products, entered in an aggregate annual quantity not to exceed 2,000 t during the 12-month period beginning on July 12, 2002 or July 12, 2003 or during the period July 12, 2004 through March 20, 2005, inclusive; the foregoing meeting the following specifications: (a) As prequalified by crack tip opening test (CTOD) and/or Charpy v-notch (CVN) testing in the weld heat affected zone for improved weldability under API RP2Z; and either (b)(i) BS 7191, EN 10225 or equivalent specification, or (ii) that are ordered with weldability qualifications by CTOD testing at temperatures below −15 °C; with goods entered under clauses (a) and (b)(ii) of this subdivision to be certified by the importer as complying therewith; or

(B) Thermomechanically (TMCP) rolled products, entered in an aggregate annual quantity not to exceed 1,000 t during the 12-month period beginning on July 12, 2002 or July 12, 2003 or during the period July 12, 2004 through March 20, 2005, inclusive; meeting the following specifications: (a) With prequalification by welded crack tip opening test (CTOD) or Charpy v-notch (CVN) testing in the weld head affected zone for improved weldability under API RP2Z; either (b)(i) BS 7191, EN 10225 or equivalent specification, or (ii) that are ordered with weldability qualifications by welded CTOD testing at temperatures below −15 °C; and (c) having a minimum yield strength of 413 MPa; with goods entered under clauses (a) and (b)(ii) of the foregoing to be certified by the importer as complying therewith;

(lxxvi) Flat-rolled products, quenched and tempered, with minimum Brinell hardness of 600 HB; thickness 3 mm or more but not over 51 mm; width not over 3,350 mm; grain refined; surface treated with a low zinc silicate primer; formatted with a square edge; free of scale; certified by the importer as guaranteed to a thickness tolerance of 1/3 of ASTM standards and guaranteed to a flatness tolerance of 4 mm/m or better; the foregoing designated as X-088;

(lxxvii) Martensitic products of stainless steel, quenched and tempered, known in industry usage as AF.913 QT; of round cross section with diameter not over 305 mm; with chemical composition (percent by weight): Carbon not over 0.02, chromium 12.0 to 15.0, nickel 4.0 to 7.0, molybdenum 1.5 to 2.0 and nitrogen 0.06 to 0.12; certified by the importer as produced to ASTM A276, ASTM A473, ASTM A479, ASTM A565, API6A, or NACE MR0175; the foregoing designated as X-035;

(lxxix) Stainless steel wire designated as X-059 and meeting the characteristics described below:

(A) Flat wire, work hardened (3/4 hard) or annealed; with chemical composition (percent by weight): carbon not over 0.15, manganese 5.5 to 7.5, chromium 16.0 to 18.0 and nickel 3.5 to 5.5; tensile strength, work hardened (3/4 hard) condition: 1,172 to 1,345 N/mm²; tensile strength, annealed condition: not over 1,035 N/mm²; or

(B) Hardenable, surgical needle wire, Grade 4C27A; with chemical composition (percent by weight): carbon not over 0.30, silicon not over 1.00, manganese not over 1.75, phosphorus not over 0.030, sulfur not over 0.25, chromium 12.0 to 14.0, nickel not over 0.80 percent and molybdenum not over 1.20 percent;”

4. In order to administer the exclusions set forth in U.S. note 11(b), as modified by this Annex, subheading 9903.73.00 is redesignated as 9903.73.01 and the following new subheadings are inserted in numerical sequence, with conforming changes set forth following the last such new subheading:

| [Flat-rolled...]
| [Goods...]
“9903.72.55 | Enumerated in U.S. note 11(b)(xx)(A) to this subchapter | No change | No change | No change
9903.72.97 | Enumerated in U.S. note 11(b)(xxv)(B) to this subchapter and designated as X-010, if entered in an aggregate annual quantity not to exceed 250 t | No change | No change | No change
9903.72.98 | Enumerated in U.S. note 11(b)(xxv)(C) to this subchapter and designated as X-010, if entered in an aggregate annual quantity not to exceed 163 t | No change | No change | No change
9903.72.99 | Enumerated in U.S. note 11(b)(xxv)(E) to this subchapter and designated as X-010, if entered in an aggregate annual quantity not to exceed 340 t | No change | No change | No change
9903.73.00 | Enumerated in U.S. note 11(b)(xxxi)(B) to this subchapter and designated as X-083, if entered in an annual aggregate quantity not to exceed 12,000 t | No change | No change | No change
Conforming changes: Subheading 9903.72.86 is modified by deleting “11(b)(xxv)” and by inserting in lieu thereof “11(b)(xxv)(A) and (D)”, and subheading 9903.72.93 is modified by deleting “11(b)(xxxi)” and by inserting in lieu thereof “11(b)(xxxi)(A)”.

5. In order to provide for the new exclusions added in item 6 of this Annex, the following conforming changes are made in existing HTS subheadings:

A. The article description of subheading 9903.72.57 is modified by inserting at the end thereof ”, as described in subheadings 9903.74.38 through 9903.74.45”.

B. The article description of subheading 9903.72.78 is modified by inserting at the end thereof ”, as described in subheadings 9903.74.61 through 9903.74.81”.

C. The article description of subheading 9903.73.01 (as redesignated by this notice) is modified by inserting at the end thereof ”, as described in subheadings 9903.75.15 through 9903.75.32”.

D. The article description of subheading 9903.73.18 is modified by inserting at the end thereof ”, as described in subheadings 9903.76.00 through 9903.76.08”.

E. The article description of subheading 9903.73.35 is modified by inserting at the end thereof ”, as described in subheadings 9903.76.26 through 9903.76.29”.

F. The article description of subheading 9903.73.48 is modified by inserting at the end thereof ”, as described in subheadings 9903.76.51 through 9903.76.61”.

G. The article description of subheading 9903.73.55 is modified by inserting at the end thereof ”, as described in subheadings 9903.76.86 through 9903.76.90”.

H. The article description of subheading 9903.73.82 is modified by inserting at the end thereof ”, as described in subheadings 9903.77.30 through 9903.77.33”.

I. The article description of subheading 9903.74.01 is modified by inserting at the end thereof ”, as described in subheadings 9903.77.61 through 9903.77.67”.

J. The article description of subheading 9903.74.12 is modified by inserting at the end thereof ”, as described in subheading 9903.77.85”.

K. The article description of subheading 9903.74.18 is modified by inserting at the end thereof ”, as described in subheadings 9903.78.10 through 9903.78.13”.

6. In order to administer the new exclusions added to U.S. note 11(c) to this subchapter, the following new subheadings are inserted in subchapter III of chapter 99 in numerical sequence:

| “Goods excluded from the application of relief under U.S. note 11(c) to this subchapter:
9903.74.38 | Enumerated in U.S. note 11(c)(x) to this subchapter | No change | No change | No change
9903.74.39 | Enumerated in U.S. note 11(c)(lii) to this subchapter | No change | No change | No change
9903.74.40 | Enumerated in U.S. note 11(c)(liii) to this subchapter | No change | No change | No change
9903.74.41 | Enumerated in U.S. note 11(c)(liv) to this subchapter | No change | No change | No change
9903.74.42 | Enumerated in U.S. note 11(c)(lv) to this subchapter, and entered in an aggregate annual quantity not to exceed 75,000 t | No change | No change | No change
9903.74.43 | Enumerated in U.S. note 11(c)(lxxv)(A) to this subchapter, and entered in an aggregate annual quantity not to exceed 2,000 t | No change | No change | No change
9903.74.44 | Enumerated in U.S. note 11(c)(lxxv)(B) to this subchapter, and entered in an aggregate annual quantity not to exceed 1,000 t | No change | No change | No change
9903.74.45 | Enumerated in U.S. note 11(c)(lxxvi) to this subchapter | No change | No change | No change
9903.74.61 | Enumerated in U.S. note 11(c)(v) to this subchapter | No change | No change | No change
9903.74.62 | Enumerated in U.S. note 11(c)(vi) to this subchapter | No change | No change | No change
9903.74.63 | Enumerated in U.S. note 11(c)(vii) to this subchapter | No change | No change | No change
9903.74.64 | Enumerated in U.S. note 11(c)(viii) to this subchapter | No change | No change | No change
9903.74.65 | Enumerated in U.S. note 11(c)(ix) to this subchapter, and entered in an aggregate annual quantity not to exceed 4,800 t | No change | No change | No change
9903.74.66 | Enumerated in U.S. note 11(c)(xviii)(A) to this subchapter, and entered in an aggregate annual quantity not to exceed 1,953 t | No change | No change | No change
9903.74.67 | Enumerated in U.S. note 11(c)(xviii)(B) to this subchapter, and entered in an aggregate annual quantity not to exceed 1,000 t | No change | No change | No change
9903.74.68 | Enumerated in U.S. note 11(c)(xviii)(C) to this subchapter, and entered in an aggregate annual quantity not to exceed 1,000 t | No change | No change | No change
9903.74.69 | Enumerated in U.S. note 11(c)(xix) to this subchapter, and entered in an aggregate annual quantity not to exceed 3,850 t. | No change | No change | No change
9903.74.70 | Enumerated in U.S. note 11(c)(xx)(A) or (B) to this subchapter | No change | No change | No change
9903.74.71 | Enumerated in U.S. note 11(c)(xx)(C) to this subchapter, and entered in an aggregate annual quantity not to exceed 439 t | No change | No change | No change
9903.74.72 | Enumerated in U.S. note 11(c)(xx)(D) to this subchapter, and entered in an aggregate annual quantity not to exceed 432 t | No change | No change | No change
9903.74.73 | Enumerated in U.S. note 11(c)(xx)(E) to this subchapter, and entered in an aggregate annual quantity not to exceed 750 t | No change | No change | No change
9903.74.74 | Enumerated in U.S. note 11(c)(xlv) to this subchapter | No change | No change | No change
9903.74.75 | Enumerated in U.S. note 11(c)(xlvi) to this subchapter | No change | No change | No change
9903.74.76 | Enumerated in U.S. note 11(c)(xlvii) to this subchapter | No change | No change | No change
9903.74.77 | Enumerated in U.S. note 11(c)(xlviii) to this subchapter, and entered in an aggregate annual quantity not to exceed 20,000 t | No change | No change | No change
9903.74.78 | Enumerated in U.S. note 11(c)(xlix) to this subchapter | No change | No change | No change
9903.74.79 | Enumerated in U.S. note 11(c)(l) to this subchapter | No change | No change | No change
9903.74.80 | Enumerated in U.S. note 11(c)(li) to this subchapter | No change | No change | No change
9903.74.81 | Enumerated in U.S. note 11(c)(lxxi) to this subchapter | No change | No change | No change
9903.75.15 | Enumerated in U.S. note 11(c)(i) to this subchapter | No change | No change | No change
9903.75.16 | Enumerated in U.S. note 11(c)(ii) to this subchapter | No change | No change | No change
9903.75.17 | Enumerated in U.S. note 11(c)(iii) to this subchapter | No change | No change | No change
9903.75.18 | Enumerated in U.S. note 11(c)(xxvi) to this subchapter | No change | No change | No change
9903.75.19 | Enumerated in U.S. note 11(c)(xxvii) to this subchapter | No change | No change | No change
9903.75.20 | Enumerated in U.S. note 11(c)(xxviii)(A) to this subchapter, and entered in an aggregate annual quantity not to exceed 6,395 t | No change | No change | No change
9903.75.21 | Enumerated in U.S. note 11(c)(xxviii)(B) to this subchapter, and entered in an aggregate annual quantity not to exceed 1,599 t | No change | No change | No change
9903.75.22 | Enumerated in U.S. note 11(c)(xxviii)(C) to this subchapter | No change | No change | No change
9903.75.23 | Enumerated in U.S. note 11(c)(xxix)(A) to this subchapter, and entered in an aggregate annual quantity not to exceed 850 t | No change | No change | No change
9903.75.24 | Enumerated in U.S. note 11(c)(xxix)(B) to this subchapter, and entered in an aggregate annual quantity not to exceed 250 t | No change | No change | No change
9903.75.25 | Enumerated in U.S. note 11(c)(xxx)(A) to this subchapter, and entered in an aggregate annual quantity not to exceed 5,534 t | No change | No change | No change
9903.75.26 | Enumerated in U.S. note 11(c)(xxx)(B) to this subchapter, and entered in an aggregate annual quantity not to exceed 100 t | No change | No change | No change
9903.75.27 | Enumerated in U.S. note 11(c)(xxx)(C) through (J), inclusive, to this subchapter | No change | No change | No change
9903.75.28 | Enumerated in U.S. note 11(c)(xxxi)(A) to this subchapter, and entered in an aggregate annual quantity not to exceed 2,467.6 t | No change | No change | No change
9903.75.29 | Enumerated in U.S. note 11(c)(xxxi)(B) to this subchapter, and entered in an aggregate annual quantity not to exceed 1,161.2 t | No change | No change | No change
9903.75.30 | Enumerated in U.S. note 11(c)(lxii) to this subchapter | No change | No change | No change
9903.75.31 | Enumerated in U.S. note 11(c)(lxx) to this subchapter | No change | No change | No change
9903.75.32 | Enumerated in U.S. note 11(c)(lxxii)(A) through (F) and (H) to this subchapter | No change | No change | No change
9903.75.33 | Enumerated in U.S. note 11(c)(i)(A) to this subchapter, and entered in an aggregate annual quantity not to exceed 45,000 t | No change | No change | No change
9903.75.34 | Enumerated in U.S. note 11(c)(i)(B) to this subchapter, and entered in an aggregate annual quantity not to exceed 5,700 t | No change | No change | No change
9903.75.35 | Enumerated in U.S. note 11(c)(i)(C) to this subchapter, and entered in an aggregate annual quantity not to exceed 17,500 t | No change | No change | No change
9903.76.00 | Enumerated in U.S. note 11(c)(xxxii) to this subchapter | No change | No change | No change
9903.76.01 | Enumerated in U.S. note 11(c)(xxxiii) to this subchapter | No change | No change | No change
9903.76.02 | Enumerated in U.S. note 11(c)(xxxiv) to this subchapter | No change | No change | No change
9903.76.03 | Enumerated in U.S. note 11(c)(xxxv) to this subchapter | No change | No change | No change
9903.76.04 | Enumerated in U.S. note 11(c)(xxxvi) to this subchapter | No change | No change | No change
9903.76.05 | Enumerated in U.S. note 11(c)(lxiii) to this subchapter | No change | No change | No change
9903.76.06 | Enumerated in U.S. note 11(c)(lxvi) to this subchapter | No change | No change | No change
9903.76.07 | Enumerated in U.S. note 11(c)(lxxii)(G) to this subchapter | No change | No change | No change
9903.76.08 | Enumerated in U.S. note 11(c)(lxxiii) to this subchapter | No change | No change | No change
9903.76.26 | Enumerated in U.S. note 11(c)(xv) to this subchapter | No change | No change | No change
9903.76.27 | Enumerated in U.S. note 11(c)(lxiv) to this subchapter | No change | No change | No change
9903.76.28 | Enumerated in U.S. note 11(c)(lxv) to this subchapter | No change | No change | No change
9903.76.29 | Enumerated in U.S. note 11(c)(lxvii) to this subchapter, and entered in an aggregate quantity not to exceed 4,006 t | No change | No change | No change
9903.76.30 | Enumerated in U.S. note 11(c)(lxiii) to this subchapter | No change | No change | No change
9903.76.51 | Enumerated in U.S. note 11(c)(iv)(A) to this subchapter, and entered in an aggregate annual quantity not to exceed 2,100 t | No change | No change | No change
9903.76.52 | Enumerated in U.S. note 11(c)(iv)(B) to this subchapter | No change | No change | No change
9903.76.53 | Enumerated in U.S. note 11(c)(xxxvii) to this subchapter | No change | No change | No change
9903.76.54 | Enumerated in U.S. note 11(c)(xxxviii) to this subchapter | No change | No change | No change
9903.76.55 | Enumerated in U.S. note 11(c)(xxxix) to this subchapter, and entered in an aggregate annual quantity not to exceed 30,000 t | No change | No change | No change
9903.76.56 | Enumerated in U.S. note 11(c)(xl) to this subchapter | No change | No change | No change
9903.76.57 | Enumerated in U.S. note 11(c)(xli) to this subchapter | No change | No change | No change
9903.76.58 | Enumerated in U.S. note 11(c)(xlii) to this subchapter | No change | No change | No change
9903.76.59 | Enumerated in U.S. note 11(c)(xliii) to this subchapter | No change | No change | No change
9903.76.60 | Enumerated in U.S. note 11(c)(xliv) to this subchapter | No change | No change | No change
9903.76.61 | Enumerated in U.S. note 11(c)(lxxiv) to this subchapter | No change | No change | No change
9903.76.86 | Enumerated in U.S. note 11(c)(xxi) to this subchapter | No change | No change | No change
9903.76.87 | Enumerated in U.S. note 11(c)(xxii) to this subchapter | No change | No change | No change
9903.76.88 | Enumerated in U.S. note 11(c)(xxiii) to this subchapter | No change | No change | No change
9903.76.89 | Enumerated in U.S. note 11(c)(xxiv) to this subchapter | No change | No change | No change
9903.76.90 | Enumerated in U.S. note 11(c)(xxv) to this subchapter | No change | No change | No change
9903.77.30 | Enumerated in U.S. note 11(c)(xvi) to this subchapter | No change | No change | No change
9903.77.31 | Enumerated in U.S. note 11(c)(xvii) to this subchapter | No change | No change | No change
9903.77.32 | Enumerated in U.S. note 11(c)(lxviii) to this subchapter | No change | No change | No change
9903.77.33 | Enumerated in U.S. note 11(c)(lxix) to this subchapter | No change | No change | No change
9903.77.61 | Enumerated in U.S. note 11(c)(xi) to this subchapter, and entered in an aggregate annual quantity not to exceed 63 t | No change | No change | No change
9903.77.62 | Enumerated in U.S. note 11(c)(xii) to this subchapter | No change | No change | No change
9903.77.63 | Enumerated in U.S. note 11(c)(lvi) to this subchapter | No change | No change | No change
9903.77.64 | Enumerated in U.S. note 11(c)(lvii) to this subchapter | No change | No change | No change
9903.77.65 | Enumerated in U.S. note 11(c)(lviii) to this subchapter | No change | No change | No change
9903.77.66 | Enumerated in U.S. note 11(c)(lix) to this subchapter | No change | No change | No change
9903.77.67 | Enumerated in U.S. note 11(c)(lxxvii) to this subchapter | No change | No change | No change
9903.77.85 | Enumerated in U.S. note 11(c)(v) to this subchapter | No change | No change | No change
9903.78.10 | Enumerated in U.S. note 11(c)(xiii) to this subchapter | No change | No change | No change
9903.78.11 | Enumerated in U.S. note 11(c)(lx) to this subchapter | No change | No change | No change
9903.78.12 | Enumerated in U.S. note 11(c)(lxi) to this subchapter | No change | No change | No change
9903.78.13 | Enumerated in U.S. note 11(c)(lxxix) to this subchapter | No change | No change | No change”

[FR Doc. 02-17562 Filed 7-11-02; 8:45 am]

BILLING CODE 3190-01-P